DEPARTMENT OF HOUSING AND URBAN DEVELOPMENT

[Docket No. FR-5280-N-07]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., Suite 1, San Antonio, TX 78226; (210) 925-3047; Army: Ms. Veronica Rines, Department of the Army, Office of the Assistant Chief of Staff for Installation Management, DAIM-ZS, Room 8536, 2511 Jefferson Davis Hwy, Arlington, VA 22202; (703) 601-2545; Coast Guard: Commandant, United States Coast Guard, Attn: Melissa Evans, 1900 Half St., SW., CG-431, Washington, DC 20593-0001; (202) 475-5628; Energy: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW, MS2603, Washington, DC 20240; (202) 208-5399; Navy: Mrs. Mary Arndt., Acting Director, Department of the Navy, Real Estate Services, Naval Facilities Engineering Command, Washington Navy Yard, 1322 Patterson Ave., SE., Suite 1000, Washington, DC 20374-5065; (202) 685-9305; VA: Mr. George L. Szarcman, Acting Director, Real Property Service (183C), Department of Veterans Affairs, 811 Vermont Avenue, NW., Room 555, Washington, DC 20420; (202) 565-5398; (These are not toll-free numbers).

Dated: February 17, 2009.
Mark R. Johnston,
Deputy Assistant Secretary for Special Needs.

TITLE V, FEDERAL SURPLUS PROPERTY PROGRAM REPORT FOR 02/27/2009

Suitable/Available Properties

Building

Arizona

Bldg. 149

Desert View

Grand Canyon AZ 86023

Landholding Agency: Interior

Property Number: 61200830001

Status: Excess

Comments: 791 sq. ft., needs rehab, most recent use—residential, off-site use only

California

Boyle Heights SSA Bldg.

N. Breed St.

Los Angeles CA 90033

Landholding Agency: GSA

Property Number: 54200840010

Status: Surplus

GSA Number: 9-G-CA-1676

Comments: 10,815 sq. ft., requires seismic strengthening to satisfy substantial life-safety criteria; expected lateral loads in structure rather high

Colorado

Bldg. 2

VAMC

2121 North Avenue

Grand Junction Co: Mesa CO 81501

Landholding Agency: VA

Property Number: 97200430001

Status: Unutilized

Comments: 3298 sq. ft., needs major rehab, presence of asbestos/lead paint

Bldg. 3

VAMC

2121 North Avenue

Grand Junction Co: Mesa CO 81501

Landholding Agency: VA

Property Number: 97200430002

Status: Unutilized

Comments: 7275 sq. ft., needs major rehab, presence of asbestos/lead paint

Indiana

Bldg. 105, VAMC

East 38th Street

Marion Co: Grant IN 46952

Landholding Agency: VA

Property Number: 97199230006

Status: Excess

Comments: 310 sq. ft., 1 story stone structure, no sanitary or heating facilities, Natl Register of Historic Places

Bldg. 10

VA Northern Indiana Health Care System

Marion Campus, 1700 East 38th Street

Marion Co: Grant IN 46953

Landholding Agency: VA

Property Number: 97199810002

Status: Underutilized

Comments: 16,361 sq. ft., presence of asbestos, most recent use—psychiatric ward, National Register of Historic Places

Bldg. 11

VA Northern Indiana Health Care System

Marion Campus, 1700 East 38th Street

Marion Co: Grant IN 46953

Landholding Agency: VA

Property Number: 97199810003

Status: Underutilized

Comments: 16,361 sq. ft., presence of asbestos, most recent use—psychiatric ward, National Register of Historic Places

Bldg. 18

VA Northern Indiana Health Care System

Marion Campus, 1700 East 38th Street

Marion Co: Grant IN 46953

Landholding Agency: VA

Property Number: 97199810004

Status: Underutilized

Comments: 13,802 sq. ft., presence of asbestos, most recent use—psychiatric ward, National Register of Historic Places

Bldg. 25

VA Northern Indiana Health Care System

Marion Campus, 1700 East 38th Street

Marion Co: Grant IN 46953

Landholding Agency: VA

Property Number: 97199810005

Status: Unutilized

Comments: 32,892 sq. ft., presence of asbestos, most recent use—psychiatric ward, National Register of Historic Places

Bldg. 1

N. Indiana Health Care System

Marion Co: Grant IN 46952

Landholding Agency: VA

Property Number: 97200310001

Status: Unutilized

Comments: 20,287 sq. ft., needs extensive repairs, presence of asbestos, most recent use—patient ward

Bldg. 3

N. Indiana Health Care System

Marion Co: Grant IN 46952

Landholding Agency: VA

Property Number: 97200310002

Status: Unutilized

Comments: 20,550 sq. ft., needs extensive repairs, presence of asbestos, most recent use—patient ward

Bldg. 4

N. Indiana Health Care System

Marion Co: Grant IN 46952

Landholding Agency: VA

Property Number: 97200310003

Status: Unutilized

Comments: 20,550 sq. ft., needs extensive repairs, presence of asbestos, most recent use—patient ward

Bldg. 13

N. Indiana Health Care System

Marion Co: Grant IN 46952

Landholding Agency: VA

Property Number: 97200310004

Status: Unutilized

Comments: 8971 sq. ft., needs extensive repairs, presence of asbestos, most recent use—office

Bldg. 42

N. Indiana Health Care System

Marion Co: Grant IN 46952

Landholding Agency: VA

Property Number: 97200310007

Status: Unutilized

Comments: 5025 sq. ft., needs extensive repairs, presence of asbestos, most recent use—office

Bldg. 60

N. Indiana Health Care System

Marion Co: Grant IN 46952

Landholding Agency: VA

Property Number: 97200310008

Status: Unutilized

Comments: 18,126 sq. ft., needs extensive repairs, presence of asbestos, most recent use—office

Bldg. 122

N. Indiana Health Care System

Marion Co: Grant IN 46952

Landholding Agency: VA

Property Number: 97200310009

Status: Unutilized

Comments: 37,135 sq. ft., needs extensive repairs, presence of asbestos, most recent use—dining hall/kitchen

Maine

Bldg. 1010

Schoodic Ed & Rsh Ctr

Acadia National Park

Hancock ME

Landholding Agency: Interior

Property Number: 61200830007

Status: Unutilized

Comments: 14200 sq. ft., presence of asbestos/lead paint, most recent use—office, off-site use only

Bldg. 1046

Schoodic Ed & Rsh Ctr

Acadia National Park

Hancock ME

Landholding Agency: Interior

Property Number: 61200830008

Status: Unutilized

Comments: 178 sq. ft., presence of lead paint, most recent use—storage, off-site use only

Bldg. 1172

Schoodic Ed & Rsh Ctr

Acadia National Park

Hancock ME

Landholding Agency: Interior

Property Number: 61200830009

Status: Unutilized

Comments: 1200 sq. ft., presence of asbestos/lead paint, most recent use—shed, off-site use only

Bldg. 1210

Schoodic Ed & Rsh Ctr

Acadia National Park

Hancock ME

Landholding Agency: Interior

Property Number: 61200830011

Status: Unutilized

Comments: 108 sq. ft., most recent use—shed, off-site use only

Bldg. 1213

Schoodic Ed & Rsh Ctr

Acadia National Park

Hancock ME

Landholding Agency: Interior

Property Number: 61200830012

Status: Unutilized

Comments: 544 sq. ft., most recent use—maintenance, off-site use only

Bldgs. 1224, 1232

Schoodic Ed & Rsh Ctr

Acadia National Park

Hancock ME

Landholding Agency: Interior

Property Number: 61200830013

Status: Unutilized

Comments: 543/768 sq. ft., most recent use—storage, off-site use only

Maryland

Bldg. 348

Naval Support Activity

Annapolis MD 21402

Landholding Agency: Navy

Property Number: 77200910007

Status: Unutilized

Comments: 5728 sq. ft., most recent use—office, off-site use only

Bldgs. NA128, NA134

Naval Support Activity

Annapolis MD 21402

Landholding Agency: Navy

Property Number: 77200910008

Status: Unutilized

Comments: 12,700 sq. ft., possible asbestos, most recent use—warehouse, off-site use only

Bldg. 99RL

Naval Support Activity

Annapolis MD 21402

Landholding Agency: Navy

Property Number: 77200910012

Status: Unutilized

Comments: possible asbestos/lead paint, most recent use—gatehouse, off-site use only

Bldg. 81NS

Naval Support Activity

Annapolis MD 21402

Landholding Agency: Navy

Property Number: 77200910013

Status: Unutilized

Comments: 3968 sq. ft., possible asbestos, most recent use—dental clinic, off-site use only

Bldg. NA60

Naval Support Activity

Annapolis MD 21402

Landholding Agency: Navy

Property Number: 77200910014

Status: Unutilized

Comments: 16,380 sq. ft., presence of asbestos, most recent use—shops/offices, off-site use only

Bldg. NA62

Naval Support Activity

Annapolis MD 21402

Landholding Agency: Navy

Property Number: 77200910015

Status: Unutilized

Comments: 800 sq. ft., most recent use—pavilion, off-site use only

Bldg. NA330

Naval Support Activity

Annapolis MD 21402

Landholding Agency: Navy

Property Number: 77200910016

Status: Unutilized

Comments: 15,810 sq. ft., possible asbestos/lead paint, most recent use—office space, off-site use only

Bldgs. 295NS, 296NS

Naval Support Activity

Annapolis MD 21402

Landholding Agency: Navy

Property Number: 77200910017

Status: Unutilized

Comments: 5250 sq. ft., possible asbestos/lead paint, most recent use—alert forces operation, offsite use only

Michigan

Trenton Border Patrol Station

23100 West Road

Brownstown MI 48183

Landholding Agency: GSA

Property Number: 54200910003

Status: Excess

GSA Number: 1-X-MI-828-1

Comments: 3989 sq. ft., possible asbestos/lead paint, most recent use—office/storage

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs

New York

Agriculture Inspection Station

193 Meridan Road

Champlain NY 12919

Landholding Agency: GSA

Property Number: 54200910004

Status: Excess

GSA Number: 1-G-NY-0950-1

Comments: 2869 sq. ft., possible asbestos/lead paint

Bldg. 3

VA Medical Center

Batavia Co: Genesee NY 14020

Landholding Agency: VA

Property Number: 97200520001

Status: Unutilized

Comments: 5840 sq. ft., needs rehab, presence of asbestos, most recent use—offices, eligible for Natl Register of Historic Places

Pennsylvania

Fmr Visitor Ctr/Cyclorama Bldg

National Military Park

Gettysburg PA 17325

Landholding Agency: Interior

Property Number: 61200830002

Status: Excess

Comments: Needs major rehab, off-site use only

Texas

Border Patrol Station

Sanderson TX 79843

Landholding Agency: GSA

Property Number: 54200910006

Status: Excess

GSA Number: 7-X-TX-1097

Comments: 1500 sq. ft., most recent use—office/garage

Wisconsin

Bldg. 8

VA Medical Center

County Highway E

Tomah Co: Monroe WI 54660

Landholding Agency: VA

Property Number: 97199010056

Status: Underutilized

Comments: 2200 sq. ft., 2 story wood frame, possible asbestos, potential utilities, structural deficiencies, needs rehab.

Land

Alabama

VA Medical Center

VAMC

Tuskegee Co: Macon AL 36083

Landholding Agency: VA

Property Number: 97199010053

Status: Underutilized

Comments: 40 acres, buffer to VA Medical Center, potential utilities, undeveloped.

Arkansas

Tracts SG-2-8a, 8b

Portions

Apache Junction AR 85220

Landholding Agency: Interior

Property Number: 61200910001

Status: Excess

Comments: 1.36 acres, water treatment plant access

California

Tract 1607

Lake Sonoma

Rockpile Rd.

Geyserville CA 85746

Landholding Agency: GSA

Property Number: 54200840011

Status: Surplus

GSA Number: 9-GR-CA-1504

Comments: Approx. 139 acres, northern portion not accessible because of steep slopes, rare manzanita species

Land

4150 Clement Street

San Francisco Co: San Francisco CA 94121

Landholding Agency: VA

Property Number: 97199240001

Status: Underutilized

Comments: 4 acres; landslide area

Iowa

40.66 acres

VA Medical Center

1515 West Pleasant St.

Knoxville Co: Marion IA 50138

Landholding Agency: VA

Property Number: 97199740002

Status: Unutilized

Comments: Golf course, easement requirements

Michigan

Former Elf Comm. Facility

3041 County Road

Republic MI 49879

Landholding Agency: GSA

Property Number: 54200840012

Status: Excess

GSA Number: 1-N-MI-0827

Comments: 6.69 acres w/transmiter bldg, support bldg., gatehouse, endangered species

Texas

Land

Olin E. Teague Veterans Center

1901 South 1st Street

Temple Co: Bell TX 76504

Landholding Agency: VA

Property Number: 97199010079

Status: Underutilized

Comments: 13 acres, portion formerly landfill, portion near flammable materials, railroad crosses property, potential utilities

Washington

6798 sq. ft. land

Navy Region Northwest

Bremerton WA

Landholding Agency: Navy

Property Number: 77200830024

Status: Unutilized

Comments: Vacant land

Wisconsin

VA Medical Center

County Highway E

Tomah Co: Monroe WI 54660

Landholding Agency: VA

Property Number: 97199010054

Status: Underutilized

Comments: 12.4 acres, serves as buffer between center and private property, no utilities

Building

Arizona

Water Conservation Lab

4331 E. Broadway Rd.

Phoenix AZ 85040

Landholding Agency: GSA

Property Number: 54200820013

Status: Excess

GSA Number: 9-A-AZ-846-1

Comments: 11365 sq. ft. main bldg w/11 additional bldgs. & 66 paved parking spaces, easement restrictions, zoning issue

California

Social Security Building

505 North Court Street

Visalia Co: Tulare CA 93291

Landholding Agency: GSA

Property Number: 54200610010

Status: Surplus

GSA Number: 9-G-CA-1643

Comments: 11,727 sq. ft., possible lead paint, most recent use—office

Old Customs House

12 Heffernan Ave.

Calexico CA 92231

Landholding Agency: GSA

Property Number: 54200710016

Status: Surplus

GSA Number: 9-G-CA-1658

Comments: 16,108 sq. ft., possible asbestos/lead paint, zoned commercial, major repairs for long term use, historic building

Defense Fuel Support Pt.

Estero Bay Facility

Morro Bay CA 93442

Landholding Agency: GSA

Property Number: 54200810001

Status: Surplus

GSA Number: 9-N-CA-1606

Comments: Former 10 acre fuel tank farm w/associated bldgs/pipelines/equipment, possible asbestos/PCBs

Hawaii

Bldg. 2652

Navy Aloha Center

Pearl Harbor HI 96860

Landholding Agency: Navy

Property Number: 77200710039

Status: Underutilized

Comments: 9125 sq. ft., most recent use—office

Indiana

Fed. Bldg./Courthouse

507 State Street

Hammond IN 46320

Landholding Agency: GSA

Property Number: 54200710003

Status: Excess

GSA Number: 1-G-IN-590

Comments: 43,133 sq. ft., presence of asbestos, most recent use—office, National Register of Historic Places

Radio Tower

Cannelton Locks & Dam

Perry IN

Landholding Agency: GSA

Property Number: 54200830020

Status: Excess

GSA Number: 1-D-IN-569E

Comments: Tower/88 sq. ft. comm storage bldg., heavily wooded area

John A. Bushemi USARC

3510 W 15th Ave

Gary IN 46404

Landholding Agency: GSA

Property Number: 54200830027

Status: Excess

GSA Number: 1-D-IN-0602

Comments: 18,689 sq. ft. admin bldg & 3780 sq. ft. maintenance bldg

Massachusetts

Federal Office Bldg

Main & Bridge St.

Springfield MA 01101

Landholding Agency: GSA

Property Number: 54200740002

Status: Excess

GSA Number: MA-6262-1

Comments: 30,000 sq. ft., 27% occupied, recommend complete system upgrade

Michigan

Social Security Bldg.

929 Stevens Road

Flint MI 48503

Landholding Agency: GSA

Property Number: 54200720020

Status: Excess

GSA Number: 1-G-MI-822

Comments: 10,283 sq. ft., most recent use—office

Minnesota

Memorial Army Rsv Ctr

1804 3rd Avenue

International Falls Co: Koochiching MN 56649

Landholding Agency: GSA

Property Number: 54200620002

Status: Excess

GSA Number: 1-D-MN-586

Comments: 8992 sq. ft., presence of asbestos/lead paint, most recent use—admin/storage

Montana

Bldg. 1045

Kootenai

Hwy 508

Lincoln MT 59935

Landholding Agency: GSA

Property Number: 54200830007

Status: Surplus

GSA Number: 7-A-MT-0627

Comments: 1385 sq. ft., most recent use—residence, off-site use only

Bldg. 1063

Kootenai

Hwy 508

Lincoln MT 59935

Landholding Agency: GSA

Property Number: 54200830008

Status: Surplus

GSA Number: 7-A-MT-0627

Comments: 3145 sq. ft., most recent use—residence, off-site use only

Bldg. 1324

Kootenai

Hwy 508

Lincoln MT 59935

Landholding Agency: GSA

Property Number: 54200830009

Status: Surplus

GSA Number: 7-A-MT-0627

Comments: 2297 sq. ft., presence of asbestos, most recent use—bunkhouse, off-site use only

Bldg. 1325

Kootenai

Hwy 508

Lincoln MT 59935

Landholding Agency: GSA

Property Number: 54200830010

Status: Surplus

GSA Number: 7-A-MT-0627

Comments: 2297 sq ft., presence of asbestos, most recent use—bunkhouse, off-site use only

Bldg. 2326

Kootenai

Hwy 508

Lincoln MT 59935

Landholding Agency: GSA

Property Number: 54200830011

Status: Surplus

GSA Number: 7-A-MT-0627

Comments: 180 sq. ft., most recent use—storage, off-site use only

Bldg. 2641

Kootenai

Hwy 508

Lincoln MT 59935

Landholding Agency: GSA

Property Number: 54200830012

Status: Surplus

GSA Number: 7-A-MT-0627

Comments: 63 sq. ft., most recent use—storage, off-site use only

Bldg. 2000

Beaverhead MT 59762

Landholding Agency: GSA

Property Number: 54200830013

Status: Surplus

GSA Number: 7-A-MT-0627

Comments: 998 sq. ft., most recent use—office, off-site use only

Bldg. 3501

Jefferson MT

Landholding Agency: GSA

Property Number: 54200830014

Status: Surplus

GSA Number: 7-A-MT-0627

Comments: 50 ft., most recent use—tower, off-site use only

Bldg. 2002

Flathead

Big Fork MT 59911

Landholding Agency: GSA

Property Number: 54200830015

Status: Surplus

GSA Number: 7-A-MT-0627

Comments: 750 sq. ft., most recent use—office, off-site use only

Bldg. 1000

Lewis & Clark

Judith Basin MT 59479

Landholding Agency: GSA

Property Number: 54200830017

Status: Surplus

GSA Number: 7-A-MT-0627

Comments: 1432 sq. ft., most recent use—residence, off-site use only

Bldg. 2429

Lewis & Clark

Judith Basin MT 59479

Landholding Agency: GSA

Property Number: 54200830018

Status: Surplus

GSA Number: 7-A-MT-0627

Comments: 240 sq. ft., most recent use—shed, off-site use only

VA MT Healthcare 210 S. Winchester

Miles City Co: Custer MT 59301

Landholding Agency: VA

Property Number: 97200030001

Status: Underutilized

Comments: 18 buildings, total sq. ft. = 123,851, presence of asbestos, most recent use—clinic/office/food production

Nebraska

Environmental Chemistry

Branch Laboratory 420 South 18th St., Omaha NE 68102

Landholding Agency: GSA

Property Number: 54200810010

Status: Excess

GSA Number: 7-D-NE-532

Comments: 11,250 sq. ft., needs repair, frequent basement flooding, requires large sump pumps, most recent use—laboratory

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

New York

Fleet Mgmt. Center

5—32nd Street

Brooklyn NY 11232

Landholding Agency: GSA

Property Number: 54200620015

Status: Surplus

GSA Number: 1-G-NY-0872B

Comments: 12,693 sq. ft., most recent use—motor pool, heavy industrial

Federal Building

Brinkerhoff/Margaret Streets

Plattsburgh NY 12901

Landholding Agency: GSA

Property Number: 54200820005

Status: Surplus

GSA Number: 1-G-NY-0898-1A

Comments: 13,833 sq. ft., eligible for National Register of Historic Places w/National Ranking of 5, most recent use—office, federal tenants to relocate in August 2008

North Carolina

USCG Station Bldgs.

Cape Hatteras

Buxton Co: Dare NC

Landholding Agency: GSA

Property Number: 54200720002

Status: Excess

GSA Number: 4-U-ND-0747A

Comments: 5 bldgs./11 Other structures, contamination

Federal Building

241 Sunset Ave.

Asheboro Co: Randolph NC 27203

Landholding Agency: GSA

Property Number: 54200840007

Status: Excess

GSA Number: 4-G-NC-0746-2AB

Comments: 6935 sq. ft., needs rehab, presence of asbestos/possible lead paint, most recent use—office, covenant included noting building's National Register eligibility

North Dakota

Residence #1

Hwy 30/Canadian Border

St. John Co: Rolette ND 58369

Landholding Agency: GSA

Property Number: 54200620005

Status: Excess

GSA Number: 7-G-ND-0504

Comments: 1300 sq. ft., possible asbestos/lead paint, off-site use only

Residence #2

Hwy 30/Canadian Border

St. John Co: Rolette ND 58369

Landholding Agency: GSA

Property Number: 54200620006

Status: Excess

GSA Number: 7-G-ND-0505

Comments: 1300 sq. ft., possible asbestos/lead paint, off-site use only

Sherwood Garage

Hwy 28

Sherwood Co: Renville ND 58782

Landholding Agency: GSA

Property Number: 54200630002

Status: Surplus

GSA Number: 7-G-ND-0512

Comments: 565 sq. ft., off-site use only

Noonan Garage

Hwy 40

Noonan Co: Divide ND 58765

Landholding Agency: GSA

Property Number: 54200630003

Status: Surplus

GSA Number: 7-G-ND-0511

Comments: 520 sq. ft., presence of asbestos, off-site use only

Westhope Garage

Hwy 83

Westhope Co: Bottineau ND 58793

Landholding Agency: GSA

Property Number: 54200630004

Status: Surplus

GSA Number: 7-G-ND-0513

Comments: 515 sq. ft., off-site use only

North House

10951 County Road

Hannah Co: Cavalier ND 58239

Landholding Agency: GSA

Property Number: 54200720008

Status: Surplus

GSA Number: 7-X-ND-0515-1A

Comments: 1128 sq. ft. residence, off-site use only

South House

10949 County Road

Hannah Co: Cavalier ND 58239

Landholding Agency: GSA

Property Number: 54200720009

Status: Surplus

GSA Number: 7-X-ND-0515-1B

Comments: 1128 sq. ft. residence, off-site use only

North House

Highway 40

Noonan Co: Divide ND 58765

Landholding Agency: GSA

Property Number: 54200720010

Status: Surplus

GSA Number: 7-X-ND-0517-1A

Comments: 1564 sq. ft. residence, off-site use only

South House

Highway 40

Noonan Co: Divide ND 58765

Landholding Agency: GSA

Property Number: 54200720011

Status: Surplus

GSA Number: 7-X-ND-0517-1B

Comments: 1564 sq. ft. residence, off-site use only

North House

Rt. 1, Box 66

Sarles Co: Cavalier ND 58372

Landholding Agency: GSA

Property Number: 54200720012

Status: Surplus

GSA Number: 7-X-ND-0516-1B

Comments: 1228 sq. ft. residence, off-site use only

South House

Rt. 1, Box 67

Sarles Co: Cavalier ND 58372

Landholding Agency: GSA

Property Number: 54200720013

Status: Surplus

GSA Number: 7-X-ND-0516-1A

Comments: 1228 sq. ft. residence, off-site use only

House #1

10925 Hwy 28

Sherwood Co: Renville ND 58782

Landholding Agency: GSA

Property Number: 54200720014

Status: Surplus

GSA Number: 7-X-ND-0518-1B

Comments: 1228 sq. ft. residence, off-site use only

House #2

10927 Hwy 28

Sherwood Co: Renville ND 58782

Landholding Agency: GSA

Property Number: 54200720015

Status: Surplus

GSA Number: 7-;X-ND-0518-1A

Comments: 1228 sq. ft. residence, off-site use only

North House

10913 Hwy 83

Westhope Co: Bottineau ND 58793

Landholding Agency: GSA

Property Number: 54200720016

Status: Surplus

GSA Number: 7-X-ND-0519-1B

Comments: 1218 sq. ft. residence, off-site use only

South House

10909 Hwy 83

Westhope Co: Bottineau ND 58793

Landholding Agency: GSA

Property Number: 54200720017

Status: Surplus

GSA Number: 7-X-ND-0519-1A

Comments: 1218 sq. ft. residence, off-site use only

Ohio

NIKE Site Cd-46

Felicity OH

Landholding Agency: GSA

Property Number: 31200740015

Status: Excess

GSA Number: 1-D-OH-0832

Comments: 8 bldgs., most recent use—Ohio Air Natl Guard site

PFC Joe R. Hastings

Army Reserve Center

3120 Parkway Dr.

Canton OH 44708

Landholding Agency: GSA

Property Number: 54200840008

Status: Excess

GSA Number: 1-D-OH-835

Comments: 27,603 sq.ft./admin bldg. & vehicle maint. bldg., presence of asbestos/lead paint/radon/PCBs

Bldg. 116

VA Medical Center

Dayton Co: Montgomery OH 45428

Landholding Agency: VA

Property Number: 97199920002

Status: Unutilized

Comments: 3 floors, potential utilities, needs major rehab, presence of asbestos/lead paint, historic property

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

Samoa

6 Housing Units

Lima & FA Streets

Tafuna AQ 96799

Landholding Agency: GSA

Property Number: 54200710001

Status: Surplus

GSA Number: 9-U-AS-002

Comments: 1722 or 1354 sq. ft., must negotiate long-term ground lease w/the Govt of American Samoa

Unit #25

Lima & FA Streets

Tafuna AQ

Landholding Agency: GSA

Property Number: 54200740001

Status: Surplus

GSA Number: 9-U-AS-002AB

Comments: 1722 sq. ft., presence of lead paint, most recent use—residential, off-site use only or negotiate ground lease with local govt

Texas

Bldgs. 5, 6, 7

Federal Center

501 West Felix Street

Ft. Worth Co: Tarrant TX 76115

Landholding Agency: GSA

Property Number: 54200640002

Status: Excess

GSA Number: 7-G-TX-0767-3

Comments: 3 warehouses with concrete foundation, off-site use only

Federal Center (Bldg 11A)

501 West Felix St.

Fort Worth TX 76115

Landholding Agency: GSA

Property Number: 54200840005

Status: Excess

GSA Number: 7-G-TX-0767AF

Comments: 8324 sq. ft., most recent use—office, off-site use only

Microwave Antenna Tower Site

353 PR 207

Ivanhoe TX 75447

Landholding Agency: GSA

Property Number: 54200840009

Status: Surplus

GSA Number: 7-D-TX-1104

Comments: 128 sq. ft. on 6.592 acres, most recent use—storage

Utah

ILS Middle Marker Annex

NE of Hill AFB

Tooele UT 84056

Landholding Agency: GSA

Property Number: 54200820004

Status: Excess

GSA Number: 7-D-UT-0421-AD

Comments: 320 sq. ft. metal bldg., 0.872 acres and 3.5 acres perpetual easements

Washington

Blaine Parking Lot

SR 543

Blaine WA 98230

Landholding Agency: GSA

Property Number: 54200830028

Status: Excess

GSA Number: 9-G-WA-1242

Comments: 2665 sq. ft., border crossing

Wisconsin

Bldg. 2

VA Medical Center

5000 West National Ave.

Milwaukee WI 53295

Landholding Agency: VA

Property Number: 97199830002

Status: Underutilized

Comments: 133,730 sq. ft., needs rehab, presence of asbestos/lead paint, most recent use—storage

Land

Arizona

Parking Lot

322 N 2nd Ave.

Phoenix AZ 85003

Landholding Agency: GSA

Property Number: 54200740007

Status: Surplus

GSA Number: AZ-6293-1

Comments: Approx. 21,000 sq. ft., parcel in OU3 study area for clean-up

SRP Ditch

24th St. & Jones Ave.

Phoenix AZ 85040

Landholding Agency: GSA

Property Number: 54200840001

Status: Surplus

GSA Number: AZ-0849-AA

Comments: Approx. 4131 sq. ft. unimproved land, floodplain

Colorado

Outer Marker—2.8 acres

Denver OUF

Denver CO

Landholding Agency: GSA

Property Number: 54200830022

Status: Surplus

GSA Number: 7-U-CO-0674

Comments: 2.8 acres

Outer Marker—0.084 acres

Denver JOY

Denver CO

Landholding Agency: GSA

Property Number: 54200830023

Status: Surplus

GSA Number: 7-U-CO-0675

Comments: 0.084 acres

Outer Marker—0.39 acres

Denver FUI

Denver CO

Landholding Agency: GSA

Property Number: 54200830024

Status: Surplus

GSA Number: 7-U-CO-0673

Comments: 0.3 acres

Outer Marker—0.39 acres

Denver DPP

Denver CO

Landholding Agency: GSA

Property Number: 54200830025

Status: Surplus

GSA Number: 7-U-CO-0676

Comments: 0.39 acres

Hawaii

6 Parcels

Naval Station

Pearl Harbor HI 96818

Landholding Agency: Navy

Property Number: 77200840012

Status: Unutilized

Comments: Various acres; encumbered by substantial improvements owned by a private navy tenant

Iowa

38 acres

VA Medical Center

1515 West Pleasant St.

Knoxville Co: Marion IA 50138

Landholding Agency: VA

Property Number: 97199740001

Status: Unutilized

Comments: Golf course

Maryland

3.54 acres

Andrews AFB

Upper Marlboro MD

Landholding Agency: GSA

Property Number: 54200810005

Status: Surplus

GSA Number: MD(R-11)0598-1

Comments: Strip parcel of land w/limited development potential

Massachusetts

FAA Site

Massasoit Bridge Rd.

Nantucket MA 02554

Landholding Agency: GSA

Property Number: 54200830026

Status: Surplus

GSA Number: MA-0895

Comments: Approx 92 acres, entire parcel within MA Division of Fisheries & Wildlife Natural Heritage & Endangered Species Program

Michigan

VA Medical Center

5500 Armstrong Road

Battle Creek Co: Calhoun MI 49016

Landholding Agency: VA

Property Number: 97199010015

Status: Underutilized

Comments: 20 acres, used as exercise trails and storage areas, potential utilities

Oklahoma

Tracts 107, 202

Candy Lake Project

Osage OK

Landholding Agency: GSA

Property Number: 54200710004

Status: Surplus

GSA Number: 7-D-OK-0529-1-F, U

Comments: 604.92 acres, cattle grazing

Oregon

20 acres

Cow Hollow Park

Nyssa OR 97913

Landholding Agency: GSA

Property Number: 54200820007

Status: Excess

GSA Number: 9-I-OR-769

Comments: 20 acres w/shower/restroom, eligible for listing on Historic Register

Pennsylvania

Approx. 16.88

271 Sterrettania Rd.

Erie PA 16506

Landholding Agency: GSA

Property Number: 54200820011

Status: Surplus

GSA Number: 4-D-PA-0810

Comments: Vacant land

VA Medical Center

New Castle Road

Butler Co: Butler PA 16001

Landholding Agency: VA

Property Number: 97199010016

Status: Underutilized

Comments: Approx. 9.29 acres, used for patient recreation, potential utilities

Pennsylvania

Land No. 645

VA. Medical Center

Highland Drive

Pittsburgh Co: Allegheny PA 15206

Landholding Agency: VA

Property Number: 97199010080

Status: Unutilized

Directions: Between Campania and Wiltsie Streets.

Comments: 90.3 acres, heavily wooded, property includes dump area and numerous site storm drain outfalls

Land—34.16 acres

VA Medical Center

1400 Black Horse Hill Road

Coatesville Co: Chester PA 19320

Landholding Agency: VA

Property Number: 97199340001

Status: Underutilized

Comments: 34.16 acres, open field, most recent use—recreation/buffer

Texas

FAA Outer Marker 18 R/L VYN

1420 Lakeside Pkwy

Flower Mound TX 75028

Landholding Agency: GSA

Property Number: 54200820017

Status: Surplus

GSA Number: 7-U-TX-1090

Comments: 1.428 acres, radar facility, published incorrectly on 8/15/08 as available

FAA Outer Marker 31R RAA

1600 Cooper Drive

Irving TX 75061

Landholding Agency: GSA

Property Number: 54200820018

Status: Surplus

GSA Number: 7-U-TX-1095

Comments: 0.305 acre, radar facility, published incorrectly on 8/15/08 as available

FAA Outer Marker 35R AJQ

300 W. Shady Grove

Grand Prairie TX 75050

Landholding Agency: GSA

Property Number: 54200820019

Status: Surplus

GSA Number: 7-U-TX-1094

Comments: 0.674 acre, radar facility, published incorrectly on 8/15/08 as available

FAA Outer Marker 36L

Grand Prairie TX 75050

Landholding Agency: GSA

Property Number: 54200830003

Status: Surplus

GSA Number: 7-U-TX-1101

Comments: 0.401 acre, radar facility

Wyoming

Cody Wyoming Property

Hwy 20

Park WY

Landholding Agency: GSA

Property Number: 54200840006

Status: Surplus

GSA Number: 7-I-WY-0547

Comments: 2.1 acres

Unsuitable Properties

Building

Alabama

Bldg. 7

VA Medical Center

Tuskegee Co: Macon AL 36083

Landholding Agency: VA

Property Number: 97199730001

Status: Underutilized

Reasons: Secured Area

Bldg. 8

VA Medical Center

Tuskegee Co: Macon AL 36083

Landholding Agency: VA

Property Number: 97199730002

Status: Underutilized

Reasons: Secured Area

Alaska

Admin. Site

624 Mill St.

Ketchikan Co: Gateway AK 99901

Landholding Agency: GSA

Property Number: 54200740004

Status: Excess

GSA Number: 9-I-AK-6296-1

Reasons: Within 2000 ft. of flammable or explosive material

Radar Tower

Potato Point Comm Site

Valdez AK

Landholding Agency: Coast Guard

Property Number: 88200710001

Status: Excess

Reasons: Secured Area; Not accessible by road; Within 2000 ft. of flammable or explosive material

Bldg. 12B

Integrated Support Command

Kodiak AK

Landholding Agency: Coast Guard

Property Number: 88200810003

Status: Excess

Reasons: Within 2000 ft. of flammable or explosive material; Extensive deterioration; Secured Area

Bldg. 554

Integrated Support Command

Kodiak AK

Landholding Agency: Coast Guard

Property Number: 88200810004

Status: Excess

Reasons: Secured Area; Within 2000 ft. of flammable or explosive material

Bldg. B02

USCG DGPS

Annette Island AK 99926

Landholding Agency: Coast Guard

Property Number: 88200820001

Status: Excess

Reasons: Secured Area

Bldg. B02

USCG DGPS

Gustavus AK 99826

Landholding Agency: Coast Guard

Property Number: 88200820002

Status: Excess

Reasons: Secured Area

Bldg. 10

LORAN Station

Carroll Inlet AK

Landholding Agency: Coast Guard

Property Number: 88200840001

Status: Excess

Reasons: Not accessible by road; Extensive deterioration

California

March Water Annex 2

Perris CA

Landholding Agency: GSA

Property Number: 54200810004

Status: Excess

GSA Number: 9-D-CA-1211

Reasons: Within airport runway clear zone

2 Trailers

Mades/Skyline Buddy

Paicines CA 95043

Landholding Agency: Interior

Property Number: 61200830003

Status: Excess

Reasons: Extensive deterioration

Bldg. 2533

Marine Corps Base

Camp Pendleton CA 92055

Landholding Agency: Navy

Property Number: 77200520005

Status: Excess

Reasons: Secured Area; Extensive deterioration

Bldg. 13111

Marine Corps Base

Camp Pendleton CA 92055

Landholding Agency: Navy

Property Number: 77200520006

Status: Excess

Reasons: Extensive deterioration; Secured Area

Bldgs. 53325, 53326

Marine Corps Base

Camp Pendleton CA 92055

Landholding Agency: Navy

Property Number: 77200520007

Status: Excess

Reasons: Secured Area; Extensive deterioration

5 Bldgs.

Marine Corps Base 53421, 53424 thru 53427

Camp Pendleton CA 92055

Landholding Agency: Navy

Property Number: 77200520008

Status: Excess

Reasons: Secured Area; Extensive deterioration

Bldgs. 61311, 61313, 61314

Marine Corps Base

Camp Pendleton CA 92055

Landholding Agency: Navy

Property Number: 77200520009

Status: Excess

Reasons: Secured Area; Extensive deterioration

Bldgs. 61320-61324, 61326

Marine Corps Base

Camp Pendleton CA 92055

Landholding Agency: Navy

Property Number: 77200520010

Status: Excess

Reasons: Extensive deterioration; Secured Area

Bldgs. 62711 thru 62717

Marine Corps Base

Camp Pendleton CA 92055

Landholding Agency: Navy

Property Number: 77200520011

Status: Excess

Reasons: Extensive deterioration; Secured Area

Bldgs. 4

Naval Submarine Base

Point Loma CA

Landholding Agency: Navy

Property Number: 77200520014

Status: Unutilized

Reasons: Extensive deterioration

Bldgs. 8915, 8931

Naval Weapons Station

Seal Beach CA 90740

Landholding Agency: Navy

Property Number: 77200530004

Status: Excess

Reasons: Extensive deterioration

Bldgs. 11, 112

Naval Weapons Station

Seal Beach CA 90740

Landholding Agency: Navy

Property Number: 77200530005

Status: Unutilized

Reasons: Extensive deterioration

Bldg. 805

Naval Weapons Station

Seal Beach CA 90740

Landholding Agency: Navy

Property Number: 77200530006

Status: Unutilized

Reasons: Extensive deterioration

Bldgs. 810 thru 823

Naval Weapons Station

Seal Beach CA 90740

Landholding Agency: Navy

Property Number: 77200530007

Status: Unutilized

Reasons: Extensive deterioration

Bldgs. 851, 859, 864

Naval Weapons Station

Seal Beach CA 90740

Landholding Agency: Navy

Property Number: 77200530008

Status: Unutilized

Reasons: Extensive deterioration

Bldg. 1146

Naval Base

Port Hueneme Co: Ventura CA 93042

Landholding Agency: Navy

Property Number: 77200530009

Status: Unutilized

Reasons: Extensive deterioration

Bldgs. 1370, 1371, 1372

Naval Base

Port Hueneme Co: Ventura CA 93042

Landholding Agency: Navy

Property Number: 77200530011

Status: Unutilized

Reasons: Extensive deterioration

Bldg. 115

Naval Base

San Diego CA

Landholding Agency: Navy

Property Number: 77200530012

Status: Excess

Reasons: Extensive deterioration

Bldg. 1674

Marine Corps Base

Camp Pendleton CA 92055

Landholding Agency: Navy

Property Number: 77200530027

Status: Excess

Reasons: Extensive deterioration; Secured Area

Bldgs. 2636, 2651, 2658

Marine Corps Base

Camp Pendleton CA 92055

Landholding Agency: Navy

Property Number: 77200530028

Status: Excess

Reasons: Extensive deterioration; Secured Area

4 Bldgs.

Marine Corps Base

Camp Pendleton CA 92055

Landholding Agency: Navy

Property Number: 77200530029

Status: Excess

Directions: 26053, 26054, 26056, 26059

Reasons: Secured Area; Extensive deterioration

Bldgs. 53333, 53334

Marine Corps Base

Camp Pendleton CA 92055

Landholding Agency: Navy

Property Number: 77200530030

Status: Excess

Reasons: Extensive deterioration; Secured Area

Bldgs. 53507, 53569

Marine Corps Base

Camp Pendleton CA 92055

Landholding Agency: Navy

Property Number: 77200530031

Status: Excess

Reasons: Secured Area; Extensive deterioration

Bldg. 170111

Marine Corps Base

Camp Pendleton CA 92055

Landholding Agency: Navy

Property Number: 77200530032

Status: Excess

Reasons: Secured Area; Extensive deterioration

Bldg. PM4-3

Naval Base

Oxnard Co: Ventura CA 93042

Landholding Agency: Navy

Property Number: 77200530033

Status: Unutilized

Reasons: Extensive deterioration

Bldg. 1781

Marine Corps Base

Camp Pendleton CA 92055

Landholding Agency: Navy

Property Number: 77200540001

Status: Excess

Reasons: Secured Area; Extensive deterioration

Bldgs. 398, 399, 404

Naval Base Point Loma

San Diego CA

Landholding Agency: Navy

Property Number: 77200540003

Status: Unutilized

Reasons: Extensive deterioration

Bldgs. 388, 389, 390, 391

Naval Base Point Loma

San Diego CA

Landholding Agency: Navy

Property Number: 77200540004

Status: Unutilized

Reasons: Extensive deterioration

Bldg. 16

Naval Submarine Base

San Diego CA

Landholding Agency: Navy

Property Number: 77200540017

Status: Unutilized

Reasons: Within 2000 ft. of flammable or explosive material; Secured Area; Extensive deterioration

Bldg. 325

Naval Base

Port Hueneme Co: Ventura CA 93043

Landholding Agency: Navy

Property Number: 77200610001

Status: Unutilized

Reasons: Within airport runway clear zone; Extensive deterioration; Secured Area

Bldgs. 1647, 1648

Marine Corps Base

Camp Pendleton CA 92055

Landholding Agency: Navy

Property Number: 77200610010

Status: Excess

Reasons: Extensive deterioration

Bldg. 1713

Marine Corps Base

Camp Pendleton CA 92055

Landholding Agency: Navy

Property Number: 77200610011

Status: Excess

Reasons: Extensive deterioration

Bldg. 220189

Marine Corps Base

Camp Pendleton CA 92055

Landholding Agency: Navy

Property Number: 77200610014

Status: Excess

Reasons: Extensive deterioration

Bldg. 2295

Marine Corps Base

Camp Pendleton CA 92055

Landholding Agency: Navy

Property Number: 77200610015

Status: Excess

Reasons: Extensive deterioration

Bldgs. 22115, 22116, 22117

Marine Corps Base

Camp Pendleton CA 92055

Landholding Agency: Navy

Property Number: 77200610016

Status: Excess

Reasons: Extensive deterioration

Bldg. 143

Naval Air Station

Lemoore CA

Landholding Agency: Navy

Property Number: 77200610017

Status: Excess

Reasons: Extensive deterioration

Bldgs. 213, 243, 273

Naval Air Station

Lemoore CA

Landholding Agency: Navy

Property Number: 77200610018

Status: Excess

Reasons: Extensive deterioration

Bldg. 303

Naval Air Station

Lemoore CA

Landholding Agency: Navy

Property Number: 77200610019

Status: Excess

Reasons: Extensive deterioration

Bldg. 471

Naval Air Station

Lemoore CA

Landholding Agency: Navy

Property Number: 77200610020

Status: Excess

Reasons: Extensive deterioration

Bldgs. 979, 928, 930

Naval Air Station

Lemoore CA

Landholding Agency: Navy

Property Number: 77200610021

Status: Excess

Reasons: Extensive deterioration

Bldgs. 999, 1000

Naval Air Station

Lemoore CA

Landholding Agency: Navy

Property Number: 77200610022

Status: Excess

Reasons: Extensive deterioration

Bldgs. 305, 353

Naval Base Point Loma

San Diego CA

Landholding Agency: Navy

Property Number: 77200610023

Status: Unutilized

Reasons: Extensive deterioration

Bldgs. 358, 359, 360, 361

Naval Base Point Loma

San Diego CA

Landholding Agency: Navy

Property Number: 77200610024

Status: Unutilized

Reasons: Extensive deterioration

Bldg. 581

Naval Base Point Loma

San Diego CA

Landholding Agency: Navy

Property Number: 77200610026

Status: Unutilized

Reasons: Extensive deterioration

Bldgs. A25, A27

Naval Base Point Loma

San Diego CA

Landholding Agency: Navy

Property Number: 77200610027

Status: Unutilized

Reasons: Extensive deterioration

Bldgs. 31926, 31927, 31928

Marine Corps Base

Camp Pendleton CA 92055

Landholding Agency: Navy

Property Number: 77200610058

Status: Excess

Reasons: Extensive deterioration

Bldg. 41326

Marine Corps Base

Camp Pendleton CA 92055

Landholding Agency: Navy

Property Number: 77200610059

Status: Excess

Reasons: Extensive deterioration

Bldg. 41816

Marine Corps Base

Camp Pendleton CA 92055

Landholding Agency: Navy

Property Number: 77200610060

Status: Excess

Reasons: Extensive deterioration

Bldgs. 1468, 1469

Naval Base

Port Hueneme Co: Ventura CA 93043

Landholding Agency: Navy

Property Number: 77200630002

Status: Unutilized

Reasons: Secured Area

Bldg. 30869

Naval Air Weapons Station

China Lake CA 93555

Landholding Agency: Navy

Property Number: 77200630005

Status: Excess

Reasons: Extensive deterioration; Secured Area

Bldgs. 2-8, 3-10

Naval Base

Port Mugu Co: Ventura CA 93043

Landholding Agency: Navy

Property Number: 77200630009

Status: Unutilized

Reasons: Extensive deterioration; Secured Area

Bldgs. 6-11, 6-12, 6-819

Naval Base

Port Mugu Co: Ventura CA 93043

Landholding Agency: Navy

Property Number: 77200630010

Status: Unutilized

Reasons: Extensive deterioration; Secured Area

Bldg. 85

Naval Base

Port Mugu Co: Ventura CA 93043

Landholding Agency: Navy

Property Number: 77200630011

Status: Unutilized

Reasons: Extensive deterioration; Secured Area

Bldgs. 120, 123

Naval Base

Port Mugu Co: Ventura CA 93043

Landholding Agency: Navy

Property Number: 77200630012

Status: Unutilized

Reasons: Extensive deterioration; Secured Area

Bldg. 724

Naval Base

Port Mugu Co: Ventura CA 93043

Landholding Agency: Navy

Property Number: 77200630013

Status: Unutilized

Reasons: Extensive deterioration; Secured Area

Bldg. 764

Naval Base

Port Mugu Co: Ventura CA 93043

Landholding Agency: Navy

Property Number: 77200630014

Status: Unutilized

Reasons: Secured Area

Bldg. 115

Naval Base

Port Hueneme Co: Ventura CA 93042

Landholding Agency: Navy

Property Number: 77200630015

Status: Unutilized

Reasons: Extensive deterioration; Secured Area

Bldg. 323

Naval Base

Port Hueneme Co: Ventura CA 93042

Landholding Agency: Navy

Property Number: 77200630016

Status: Unutilized

Reasons: Extensive deterioration; Secured Area

Bldg. 488

Naval Base

Port Hueneme Co: Ventura CA 93042

Landholding Agency: Navy

Property Number: 77200630017

Status: Unutilized

Reasons: Extensive deterioration; Secured Area

Bldg. 842

Naval Base

Port Hueneme Co: Ventura CA 93042

Landholding Agency: Navy

Property Number: 77200630018

Status: Unutilized

Reasons: Extensive deterioration; Secured Area

Bldg. 927

Naval Base

Port Hueneme Co: Ventura CA 93042

Landholding Agency: Navy

Property Number: 77200630019

Status: Unutilized

Reasons: Extensive deterioration; Secured Area

Bldg. 1150

Naval Base

Port Hueneme Co: Ventura CA 93042

Landholding Agency: Navy

Property Number: 77200630020

Status: Unutilized

Reasons: Extensive deterioration; Secured Area

Bldg. 1361

Naval Base

Port Hueneme Co: Ventura CA 93042

Landholding Agency: Navy

Property Number: 77200630021

Status: Unutilized

Reasons: Extensive deterioration; Secured Area

Bldg. PH546

Naval Base

Port Hueneme Co: Ventura CA 93043

Landholding Agency: Navy

Property Number: 77200640027

Status: Unutilized

Reasons: Extensive deterioration; Secured Area

Bldg. PH425

Naval Base

Port Hueneme Co: Ventura CA 93043

Landholding Agency: Navy

Property Number: 77200710001

Status: Unutilized

Reasons: Secured Area; Extensive deterioration

Bldg. PM 134

Naval Base

Point Mugu Co: Ventura CA 93043

Landholding Agency: Navy

Property Number: 77200710023

Status: Unutilized

Reasons: Secured Area; Extensive deterioration

Bldgs. PH837, PH1372

Naval Base

Port Hueneme Co: Ventura CA 93043

Landholding Agency: Navy

Property Number: 77200710024

Status: Unutilized

Reasons: Extensive deterioration; Secured Area

Bldg. 523107

Marine Corps Base

Camp Pendleton CA 92055

Landholding Agency: Navy

Property Number: 77200710025

Status: Excess

Reasons: Extensive deterioration

6 Bldgs.

Marine Corps Base

Camp Pendleton CA 92055

Landholding Agency: Navy

Property Number: 77200710026

Status: Excess

Directions: 523112, 523113, 523114, 523115, 523116, 523117

Reasons: Extensive deterioration

6 Bldgs.

Marine Corps Base

Camp Pendleton CA 92055

Landholding Agency: Navy

Property Number: 77200710027

Status: Excess

Directions: 523122, 523123, 523124, 523125, 523126, 523127

Reasons: Extensive deterioration

6 Bldgs.

Marine Corps Base

Camp Pendleton CA 92055

Landholding Agency: Navy

Property Number: 77200710028

Status: Excess

Directions: 523132, 523133, 523134, 523135, 523136, 523137

Reasons: Extensive deterioration

6 Bldgs.

Marine Corps Base

Camp Pendleton CA 92055

Landholding Agency: Navy

Property Number: 77200710029

Status: Excess

Directions: 523142, 523143, 523144, 523145, 523146, 523147

Reasons: Extensive deterioration

Bldgs. 523156, 523157

Marine Corps Base

Camp Pendleton CA 92055

Landholding Agency: Navy

Property Number: 77200710030

Status: Excess

Reasons: Extensive deterioration

Bldg. 30726

Naval Air Weapons

China Lake CA 93555

Landholding Agency: Navy

Property Number: 77200710047

Status: Excess

Reasons: Secured Area

Bldgs. PH284, PH339

Naval Base

Port Hueneme Co: Ventura CA 93043

Landholding Agency: Navy

Property Number: 77200720001

Status: Unutilized

Reasons: Extensive deterioration; Secured Area

Bldgs. PH805, PH1179

Naval Base

Port Hueneme Co: Ventura CA 93043

Landholding Agency: Navy

Property Number: 77200720002

Status: Unutilized

Reasons: Secured Area; Extensive deterioration

Bldgs. PH1207, PH1264, PH1288

Naval Base

Port Hueneme Co: Ventura CA 93043

Landholding Agency: Navy

Property Number: 77200720003

Status: Unutilized

Reasons: Extensive deterioration; Secured Area

Bldgs. PM 3-53, PM129, PM402

Naval Base

Port Mugu Co: Ventura CA 93043

Landholding Agency: Navy

Property Number: 77200720004

Status: Unutilized

Reasons: Secured Area; Extensive deterioration

Bldg. LP908

Naval Base

Laguna Peak

Port Mugu Co: Ventura CA 93043

Landholding Agency: Navy

Property Number: 77200720005

Status: Unutilized

Reasons: Extensive deterioration; Secured Area

Bldg. PM790

Naval Base

Oxnard CA 93043

Landholding Agency: Navy

Property Number: 77200720006

Status: Unutilized

Reasons: Extensive deterioration; Secured Area

Bldg. 53402

Marine Corps Base

Camp Pendleton CA 92055

Landholding Agency: Navy

Property Number: 77200720007

Status: Excess

Reasons: Secured Area; Extensive deterioration

Bldg. 307

Naval Base

San Diego CA

Landholding Agency: Navy

Property Number: 77200720009

Status: Excess

Reasons: Secured Area

Bldg. 3135

Naval Base

San Diego CA

Landholding Agency: Navy

Property Number: 77200720010

Status: Excess

Reasons: Secured Area

Bldgs. 30727, 31409

Naval Air Weapons Station

China Lake CA 93555

Landholding Agency: Navy

Property Number: 77200720011

Status: Excess

Reasons: Secured Area

Bldgs. 60142, 60158

Naval Base Coronado

San Clemente Island CA

Landholding Agency: Navy

Property Number: 77200720012

Status: Unutilized

Reasons: Extensive deterioration; Not accessible by road

Bldgs. 60160, 60162, 60164

Naval Base Coronado

San Clemente Island CA

Landholding Agency: Navy

Property Number: 77200720013

Status: Unutilized

Reasons: Extensive deterioration

Bldgs. 60203, 60210, 60211

Naval Base Coronado

San Clemente Island CA

Landholding Agency: Navy

Property Number: 77200720014

Status: Unutilized

Reasons: Extensive deterioration

Bldgs. 60214, 60215

Naval Base Coronado

San Clemente Island CA

Landholding Agency: Navy

Property Number: 77200720015

Status: Unutilized

Reasons: Extensive deterioration

Bldgs. 60227, 60243, 60250

Naval Base Coronado

San Clemente Island CA

Landholding Agency: Navy

Property Number: 77200720016

Status: Unutilized

Reasons: Extensive deterioration

Bldg. 60313

Naval Base Coronado

San Clemente Island CA

Landholding Agency: Navy

Property Number: 77200720017

Status: Unutilized

Reasons: Extensive deterioration

Bldg. 404

Naval Air Station

North Island CA

Landholding Agency: Navy

Property Number: 77200720032

Status: Unutilized

Reasons: Extensive deterioration

Bldg. 3267

Naval Base

San Diego CA

Landholding Agency: Navy

Property Number: 77200720039

Status: Unutilized

Reasons: Secured Area

Bldgs. 11090, 98033

Naval Air Weapons

China Lake CA 93555

Landholding Agency: Navy

Property Number: 77200720054

Status: Excess

Reasons: Extensive deterioration; Secured Area

Bldgs. 41314, 41362

Marine Corps Base

Camp Pendleton CA 92055

Landholding Agency: Navy

Property Number: 77200720055

Status: Excess

Reasons: Extensive deterioration

Bldgs. 192, 193, 410

Naval Base

San Diego CA

Landholding Agency: Navy

Property Number: 77200720063

Status: Excess

Reasons: Secured Area

Bldg. 415

Naval Base

San Diego CA

Landholding Agency: Navy

Property Number: 77200730013

Status: Unutilized

Reasons: Secured Area

Bldgs. 3363, 3364

Naval Base

San Diego CA

Landholding Agency: Navy

Property Number: 77200730014

Status: Unutilized

Reasons: Secured Area

4 Bldgs.

Naval Base

3185D, 3222, 3251, 3309

San Diego CA

Landholding Agency: Navy

Property Number: 77200730015

Status: Unutilized

Reasons: Secured Area

Portion/Bldg. T17

Naval Base Point Loma

San Diego CA

Landholding Agency: Navy

Property Number: 77200730016

Status: Underutilized

Reasons: Secured Area

Bldg. 297

Naval Base

San Diego CA

Landholding Agency: Navy

Property Number: 77200730017

Status: Unutilized

Reasons: Secured Area

Bldgs. 13, 87

Naval Air Station

Coronado Co: San Diego CA

Landholding Agency: Navy

Property Number: 77200730022

Status: Excess

Reasons: Secured Area; Extensive deterioration

Bldg. 243

Naval Air Station

Coronado Co: San Diego CA

Landholding Agency: Navy

Property Number: 77200730023

Status: Excess

Reasons: Secured Area; Extensive deterioration

Bldg. 381

Naval Air Station

Coronado Co: San Diego CA

Landholding Agency: Navy

Property Number: 77200730024

Status: Excess

Reasons: Secured Area

4 Bldgs.

Naval Air Station 493, 663, 682, 784

Coronado Co: San Diego CA

Landholding Agency: Navy

Property Number: 77200730025

Status: Excess

Reasons: Extensive deterioration; Secured Area

Bldg. 809

Naval Air Station

Coronado Co: San Diego CA

Landholding Agency: Navy

Property Number: 77200730026

Status: Excess

Reasons: Secured Area

Bldg. 983

Naval Air Station

Coronado Co: San Diego CA

Landholding Agency: Navy

Property Number: 77200730027

Status: Excess

Reasons: Secured Area

Bldg. 1459

Naval Air Station

Coronado Co: San Diego CA

Landholding Agency: Navy

Property Number: 77200730028

Status: Excess

Reasons: Extensive deterioration; Secured Area

Bldg. 334

Naval Base

San Diego CA

Landholding Agency: Navy

Property Number: 77200730029

Status: Excess

Reasons: Secured Area

Bldgs. 124, 148

Naval Air Station

North Island CA

Landholding Agency: Navy

Property Number: 77200740002

Status: Excess

Reasons: Secured Area

Bldgs. 314, 341, 636

Naval Air Station

North Island CA

Landholding Agency: Navy

Property Number: 77200740003

Status: Excess

Reasons: Secured Area

Bldgs. 710, 802, 826

Naval Air Station

North Island CA

Landholding Agency: Navy

Property Number: 77200740004

Status: Excess

Reasons: Secured Area

Bldgs. 60139, 60180

Naval Air Station

San Clemente CA

Landholding Agency: Navy

Property Number: 77200740005

Status: Excess

Reasons: Secured Area

Bldgs. 41313, 41314

Marine Corps Base

Camp Pendleton CA 92055

Landholding Agency: Navy

Property Number: 77200740006

Status: Excess

Reasons: Secured Area; Extensive deterioration

4 Bldgs.

Marine Corps Base

41359, 41362, 41365, 41366

Camp Pendleton CA 92055

Landholding Agency: Navy

Property Number: 77200740007

Status: Excess

Reasons: Secured Area; Extensive deterioration

Bldg. 43976

Marine Corps Base

Camp Pendleton CA 92055

Landholding Agency: Navy

Property Number: 77200740008

Status: Excess

Reasons: Secured Area; Extensive deterioration

Bldgs. 53440, 53831

Marine Corps Base

Camp Pendleton CA 92055

Landholding Agency: Navy

Property Number: 77200740009

Status: Excess

Reasons: Extensive deterioration; Secured Area

Bldg. 410365

Marine Corps Base

Camp Pendleton CA 92055

Landholding Agency: Navy

Property Number: 77200740010

Status: Excess

Reasons: Secured Area; Extensive deterioration

Bldg. 259

Naval Air Station

North Island CA

Landholding Agency: Navy

Property Number: 77200740015

Status: Excess

Reasons: Extensive deterioration; Secured Area

Bldg. 41356

Marine Corps Base

Camp Pendleton CA 92055

Landholding Agency: Navy

Property Number: 77200740017

Status: Excess

Reasons: Extensive deterioration; Secured Area

Bldg. 84

Naval Base

San Diego CA

Landholding Agency: Navy

Property Number: 77200740018

Status: Excess

Reasons: Secured Area

4 Bldgs.

Marine Corps Base

41312, 53426, 53427, 53430

Camp Pendleton CA 92055

Landholding Agency: Navy

Property Number: 77200810008

Status: Excess

Reasons: Secured Area; Extensive deterioration

Bldgs. 2537, 2538

Marine Corps Base

Camp Pendleton CA 92055

Landholding Agency: Navy

Property Number: 77200810009

Status: Excess

Reasons: Extensive deterioration

Bldgs. 43286, 43287

Marine Corps Base

Camp Pendleton CA 92055

Landholding Agency: Navy

Property Number: 77200810010

Status: Excess

Reasons: Extensive deterioration

Bldg. 33007

Naval Air Weapons Station

China Lake CA

Landholding Agency: Navy

Property Number: 77200810011

Status: Excess

Reasons: Within 2000 ft. of flammable or explosive material; Secured Area

Bldgs. 22176, 62507, 410363

Marine Corps Base

Camp Pendleton CA

Landholding Agency: Navy

Property Number: 77200810021

Status: Excess

Reasons: Secured Area; Extensive deterioration

Bldgs. 25261, 41342, 41344

Marine Corps Base

Camp Pendleton CA 92055

Landholding Agency: Navy

Property Number: 77200810026

Status: Excess

Reasons: Extensive deterioration; Secured Area

Bldg. 105

Naval Base

Point Loma Co: San Diego CA

Landholding Agency: Navy

Property Number: 77200820005

Status: Unutilized

Reasons: Extensive deterioration; Secured Area

Bldg. PH1230

Naval Base

Port Hueneme CA 93043

Landholding Agency: Navy

Property Number: 77200820021

Status: Unutilized

Reasons: Extensive deterioration

Bldgs. 17, 37, 130

Naval Base

San Diego CA 92136

Landholding Agency: Navy

Property Number: 77200820023

Status: Excess

Reasons: Secured Area

Bldgs. 3053, 3328

Naval Base

San Diego CA 92136

Landholding Agency: Navy

Property Number: 77200820025

Status: Excess

Reasons: Secured Area

Bldgs. 3368, 3370

Naval Base

San Diego CA 92136

Landholding Agency: Navy

Property Number: 77200820026

Status: Excess

Reasons: Secured Area

Bldgs. 3591, 3592

Naval Base

San Diego CA 92136

Landholding Agency: Navy

Property Number: 77200820027

Status: Excess

Reasons: Secured Area

Bldg. 3603

Naval Base

San Diego CA 92136

Landholding Agency: Navy

Property Number: 77200820028

Status: Excess

Reasons: Secured Area; Floodway

Bldg. PH1230

Naval Base

Port Hueneme CA 93043

Landholding Agency: Navy

Property Number: 77200820029

Status: Unutilized

Reasons: Extensive deterioration; Secured Area

Bldg. PM28

Naval Base

Point Mugu CA 93042

Landholding Agency: Navy

Property Number: 77200820030

Status: Unutilized

Reasons: Extensive deterioration; Secured Area

Bldgs. PH5295, PH5297

Naval Base

Oxnard CA 93042

Landholding Agency: Navy

Property Number: 77200820031

Status: Unutilized

Reasons: Secured Area; Extensive deterioration

4 Bldgs.

Naval Base

Oxnard CA 93042

Landholding Agency: Navy

Property Number: 77200820032

Status: Unutilized

Directions: PH5303, PH5315, PH5318, PH5319

Reasons: Extensive deterioration; Secured Area

Bldgs. PH5323, PH5329

Naval Base

Oxnard CA 93042

Landholding Agency: Navy

Property Number: 77200820033

Status: Unutilized

Reasons: Secured Area; Extensive deterioration

Bldgs. 60180, 60139

San Clemente Island

Naval Base

Coronado CA

Landholding Agency: Navy

Property Number: 77200830001

Status: Excess

Reasons: Secured Area

Bldg. 148

Naval Amphibious Base

Coronado CA

Landholding Agency: Navy

Property Number: 77200830002

Status: Excess

Reasons: Secured Area

Bldgs. 13, 87, 124, 243

Naval Air Station

North Island CA

Landholding Agency: Navy

Property Number: 77200830003

Status: Excess

Reasons: Secured Area

5 Bldgs.

Naval Air Station

307, 311, 314, 341, 381

North Island CA

Landholding Agency: Navy

Property Number: 77200830004

Status: Excess

Reasons: Secured Area

Bldgs. 493

Naval Air Station

North Island CA

Landholding Agency: Navy

Property Number: 77200830005

Status: Excess

Reasons: Secured Area

Bldgs. 636, 663, 682

Naval Air Station

North Island CA

Landholding Agency: Navy

Property Number: 77200830006

Status: Excess

Reasons: Secured Area

Bldgs. 710, 784

Naval Air Station

North Island CA

Landholding Agency: Navy

Property Number: 77200830007

Status: Excess

Reasons: Secured Area

Bldgs. 802, 809, 826

Naval Air Station

North Island CA

Landholding Agency: Navy

Property Number: 77200830008

Status: Excess

Reasons: Secured Area

Bldgs. 983, 1459

Naval Air Station

North Island CA

Landholding Agency: Navy

Property Number: 77200830009

Status: Excess

Reasons: Secured Area

Bldg. 33005

Naval Air Weapons Station

China Lake CA 93555

Landholding Agency: Navy

Property Number: 77200830011

Status: Excess

Reasons: Secured Area; within 2000 ft. of flammable or explosive material; Extensive deterioration

Bldgs. 2, 10, 59

Naval Base

Point Loma CA

Landholding Agency: Navy

Property Number: 77200830012

Status: Unutilized

Reasons: Secured Area

Bldgs. 25152, 41321, 41406

Marine Corps Base

Camp Pendleton CA 92055

Landholding Agency: Navy

Property Number: 77200830022

Status: Excess

Reasons: Secured Area; Extensive deterioration

Bldg. 1391

Marine Corps Base

Camp Pendleton CA 92055

Landholding Agency: Navy

Property Number: 77200830025

Status: Excess

Reasons: Extensive deterioration

Bldgs. 1211, 1213, 1214, 1216

Marine Corps Base

Camp Pendleton CA 92055

Landholding Agency: Navy

Property Number: 77200830026

Status: Excess

Reasons: Extensive deterioration

Bldgs. 52654, 52655

Marine Corps Base

Camp Pendleton CA 92055

Landholding Agency: Navy

Property Number: 77200830027

Status: Excess

Reasons: Extensive deterioration

Bldgs. 453, 454, 508, 509

Naval Air Station

Lemoore CA

Landholding Agency: Navy

Property Number: 77200840003

Status: Unutilized

Reasons: Within 2000 ft. of flammable or explosive material; Secured Area; Extensive deterioration

Bldgs. 950, 952, 994

Naval Air Station

Lemoore CA

Landholding Agency: Navy

Property Number: 77200840004

Status: Unutilized

Reasons: Secured Area

4 Bldgs.

Marine Corps Base

14113, 14114, 14126, 21401

Camp Pendleton CA

Landholding Agency: Navy

Property Number: 77200840010

Status: Excess

Reasons: Secured Area; Extensive deterioration

4 Bldgs.

Marine Corps Base

Camp Pendleton CA 92055

Landholding Agency: Navy

Property Number: 77200910001

Status: Excess

Directions: 41350, 51916T, 62357T, 62367

Reasons: Extensive deterioration; Secured Area

6 Bldgs.

Naval Air Station

North Island CA

Landholding Agency: Navy

Property Number: 77200910002

Status: Excess

Directions: C38, C47, C85, C93B, C101, C102

Reasons: Extensive deterioration; Secured Area

Bldgs. 78, 126

Naval Base

San Diego CA

Landholding Agency: Navy

Property Number: 77200910003

Status: Excess

Reasons: Extensive deterioration; Secured Area

Bldg. 19

USCG Integrated Sup Comm

San Pedro CA 90731

Landholding Agency: Coast Guard

Property Number: 88200820004

Status: Unutilized

Reasons: Extensive deterioration

Colorado

Bldg. 782

La Poudre Pass

Larimer CO 80517

Landholding Agency: Interior

Property Number: 61200830004

Status: Unutilized

Reasons: Extensive deterioration

Connecticut

Bldg. 486

Naval Submarine Base

New London CT 06349

Landholding Agency: Navy

Property Number: 77200910004

Status: Excess

Reasons: Extensive deterioration; Secured Area

District of Columbia

Bldg. 396

Naval Support Facility

Anacostia Annex DC 20373

Landholding Agency: Navy

Property Number: 77200630008

Status: Unutilized

Reasons: Secured Area; Within 2000 ft. of flammable or explosive material

Bldg. W22

Washington Navy Yard

Washington DC 20374

Landholding Agency: Navy

Property Number: 77200820035

Status: Underutilized

Reasons: Secured Area

Bldg. 171

Naval Station Anacostia

DC DC 20375

Landholding Agency: Navy

Property Number: 77200910021

Status: Unutilized

Reasons: Secured Area; Floodway

Florida

Army Rsv Aviation Support

Facility 49

8601 Avenue B

Orlando FL 32827

Landholding Agency: GSA

Property Number: 54200820002

Status: Excess

GSA Number: 4-D-FL-705-6EO

Reasons: Within airport runway clear zone

Bldg. U-150

Naval Air Station

Key West Co: Monroe FL 33040

Landholding Agency: Navy

Property Number: 77200520044

Status: Excess

Reasons: Secured Area; Extensive deterioration

Bldgs. V1221 A

Naval Air Station

Sigsbee Park

Key West Co: Monroe FL 33040

Landholding Agency: Navy

Property Number: 77200530013

Status: Unutilized

Reasons: Secured Area; Extensive deterioration

Bldg. 969

Naval Air Station

Jacksonville Co: Duval FL 32212

Landholding Agency: Navy

Property Number: 77200540014

Status: Unutilized

Reasons: Secured Area

Bldgs. 1759, 1760

Naval Air Station

Jacksonville Co: Duval FL

Landholding Agency: Navy

Property Number: 77200540015

Status: Unutilized

Reasons: Secured Area

Bldg. 1917

Naval Air Station

Jacksonville Co: Duval FL 32212

Landholding Agency: Navy

Property Number: 77200540016

Status: Unutilized

Reasons: Secured Area

Bldgs. 1, 2

Naval Station

Mayport Co: Duval FL 32228

Landholding Agency: Navy

Property Number: 77200540018

Status: Excess

Reasons: Secured Area; Floodway; Extensive deterioration

Bldg. 24

Naval Station

Mayport Co: Duval FL 32228

Landholding Agency: Navy

Property Number: 77200540019

Status: Excess

Reasons: Extensive deterioration; Secured Area; Floodway

Bldg. 66

Naval Station

Mayport Co: Duval FL 32228

Landholding Agency: Navy

Property Number: 77200540020

Status: Excess

Reasons: Floodway; Secured Area; Extensive deterioration

Bldg. 216

Naval Station

Mayport Co: Duval FL 32228

Landholding Agency: Navy

Property Number: 77200540021

Status: Excess

Reasons: Extensive deterioration; Secured Area; Floodway

Bldgs. 437, 450

Naval Station

Mayport Co: Duval FL 32228

Landholding Agency: Navy

Property Number: 77200540022

Status: Excess

Reasons: Extensive deterioration; Floodway; Secured Area

Bldgs. 1234, 1235

Naval Station

Mayport Co: Duval FL 32228

Landholding Agency: Navy

Property Number: 77200540023

Status: Excess

Reasons: Secured Area; Extensive deterioration; Floodway

Bldg. 212

Naval Station

Mayport Co: Duval FL 32228

Landholding Agency: Navy

Property Number: 77200620011

Status: Unutilized

Reasons: Secured Area; Floodway; Extensive deterioration

Bldg. 508

Naval Station

Mayport FL 32228

Landholding Agency: Navy

Property Number: 77200620035

Status: Unutilized

Reasons: Secured Area; Floodway

Bldg. 834

Naval Air Station

Pensacola Co: Escambia FL 32508

Landholding Agency: Navy

Property Number: 77200630022

Status: Unutilized

Reasons: Extensive deterioration

Bldg. 2658

Naval Air Station

Pensacola Co: Escambia FL 32508

Landholding Agency: Navy

Property Number: 77200630023

Status: Unutilized

Reasons: Extensive deterioration

Bldg. 3483

Naval Air Station

Pensacola Co: Escambia FL 32508

Landholding Agency: Navy

Property Number: 77200630024

Status: Unutilized

Reasons: Extensive deterioration

Bldg. 6144

Naval Air Station

Pensacola Co: Escambia FL 32508

Landholding Agency: Navy

Property Number: 77200630025

Status: Unutilized

Reasons: Extensive deterioration

Bldg. F11

Naval Air Station

Key West FL 33040

Landholding Agency: Navy

Property Number: 77200630026

Status: Unutilized

Reasons: Extensive deterioration; Secured Area

Bldgs. A225, A409

Naval Air Station

Key West FL 33040

Landholding Agency: Navy

Property Number: 77200630027

Status: Unutilized

Reasons: Secured Area; Extensive deterioration

Bldg. A515

Naval Air Station

Key West FL 33040

Landholding Agency: Navy

Property Number: 77200630028

Status: Unutilized

Reasons: Extensive deterioration; Secured Area

Bldg. A635

Naval Air Station

Key West FL 33040

Landholding Agency: Navy

Property Number: 77200630029

Status: Unutilized

Reasons: Secured Area; Extensive deterioration

Bldgs. A993, A994

Naval Air Station

Key West FL 33040

Landholding Agency: Navy

Property Number: 77200630030

Status: Unutilized

Reasons: Extensive deterioration; Secured Area

Bldg. A1068

Naval Air Station

Key West FL 33040

Landholding Agency: Navy

Property Number: 77200630031

Status: Unutilized

Reasons: Secured Area; Extensive deterioration

Bldg. A4021

Naval Air Station

Key West FL 33040

Landholding Agency: Navy

Property Number: 77200630032

Status: Unutilized

Reasons: Extensive deterioration; Secured Area

Bldg. 4080

Naval Air Station

Key West FL 33040

Landholding Agency: Navy

Property Number: 77200630033

Status: Unutilized

Reasons: Extensive deterioration; Secured Area

88 Facilities

Saufley Field

Pensacola FL 32508

Landholding Agency: Navy

Property Number: 77200740016

Status: Unutilized

Reasons: Within airport runway clear zone

Bldgs. C5, A329

Naval Air Station

Key West FL 33040

Landholding Agency: Navy

Property Number: 77200810007

Status: Excess

Reasons: Secured Area; Extensive deterioration

Bldgs. 2, 5, 24, 26

Naval Air Station

Jacksonville Co: Duval FL

Landholding Agency: Navy

Property Number: 77200820006

Status: Unutilized

Reasons: Extensive deterioration; Secured Area

Bldgs. 104A, 136, 159

Naval Air Station

Jacksonville Co: Duval FL 32212

Landholding Agency: Navy

Property Number: 77200820007

Status: Unutilized

Reasons: Secured Area; Extensive deterioration

6 Bldgs.

Naval Air Station

Jacksonville Co: Duval FL 32212

Landholding Agency: Navy

Property Number: 77200820008

Status: Unutilized

Directions: 323, 324, 338, 339, 347, 348

Reasons: Secured Area; Extensive deterioration

5 Bldgs.

Naval Air Station

Jacksonville Co: Duval FL 32212

Landholding Agency: Navy

Property Number: 77200820009

Status: Unutilized

Directions: 607, 612, 614B, 674, 675

Reasons: Extensive deterioration; Secured Area

Bldgs. 820, 890

Naval Air Station

Jacksonville Co: Duval FL 32212

Landholding Agency: Navy

Property Number: 77200820010

Status: Unutilized

Reasons: Extensive deterioration; Secured Area

Bldgs. 1756, 1937

Naval Air Station

Jacksonville Co: Duval FL 32212

Landholding Agency: Navy

Property Number: 77200820011

Status: Unutilized

Reasons: Extensive deterioration; Secured Area

Georgia

Bldg. 5101

Naval Submarine Base

Kings Bay Co: Camden GA 31547

Landholding Agency: Navy

Property Number: 77200520004

Status: Unutilized

Reasons: Floodway; Secured Area; Extensive deterioration

Bldg. 0038

Naval Submarine Base

Kings Bay GA 31547

Landholding Agency: Navy

Property Number: 77200620036

Status: Unutilized

Reasons: Secured Area; Extensive deterioration

7 Bldgs.

Marine Logistics Base

Albany GA

Landholding Agency: Navy

Property Number: 77200720040

Status: Excess

Directions: 7100, 7106, 7108, 7110, 5584, 7964, 7966

Reasons: Secured Area

Guam

Bldg. B-32

Naval Forces

Marianas GU

Landholding Agency: Navy

Property Number: 77200520023

Status: Unutilized

Reasons: Extensive deterioration

Bldgs. 76, 77, 79

Naval Forces

Marianas GU

Landholding Agency: Navy

Property Number: 77200520024

Status: Unutilized

Reasons: Extensive deterioration

4 Bldgs.

Naval Forces

261, 262, 263, 269

Marianas GU

Landholding Agency: Navy

Property Number: 77200520025

Status: Unutilized

Reasons: Extensive deterioration

Bldg. 404NM

Naval Forces

Marianas GU

Landholding Agency: Navy

Property Number: 77200520026

Status: Unutilized

Reasons: Extensive deterioration

Bldgs. 3150, 3268

Naval Forces

Marianas GU

Landholding Agency: Navy

Property Number: 77200520030

Status: Unutilized

Reasons: Extensive deterioration

Bldgs. 5409, 5412, 5413

Naval Forces

Marianas GU

Landholding Agency: Navy

Property Number: 77200520031

Status: Unutilized

Reasons: Extensive deterioration

Bldg. 5500

Naval Forces

Marianas GU

Landholding Agency: Navy

Property Number: 77200520032

Status: Unutilized

Reasons: Extensive deterioration

73 Bldgs.

Naval Computer Station

Marianas GU

Landholding Agency: Navy

Property Number: 77200520045

Status: Excess

Directions: A700-A716, A725, A728, A735, A741-A784, A803-A805, A811-A813, A829-A831

Reasons: Extensive deterioration; Secured Area

Bldgs. 2006, 2009

Naval Ship Repair Facility

Marianas GU

Landholding Agency: Navy

Property Number: 77200520048

Status: Excess

Reasons: Extensive deterioration; Secured Area

Bldgs. 2014, 2916

Naval Ship Repair Facility

Marianas GU

Landholding Agency: Navy

Property Number: 77200520049

Status: Excess

Reasons: Extensive deterioration; Secured Area

Bldgs. 277, 308

Naval Forces Marianas

Santa Rita Co: Apra Harbor GU

Landholding Agency: Navy

Property Number: 77200610028

Status: Excess

Reasons: Secured Area

Bldgs. 1686, 1689, 1690

Naval Forces Marianas

Santa Rita Co: Apra Harbor GU

Landholding Agency: Navy

Property Number: 77200610029

Status: Excess

Reasons: Secured Area

Bldgs. 1714, 1767, 1768

Naval Forces Marianas

Santa Rita Co: Apra Harbor GU

Landholding Agency: Navy

Property Number: 77200610030

Status: Excess

Reasons: Secured Area

Bldgs. 1771, 1772, 1773

Naval Forces Marianas

Santa Rita Co: Apra Harbor GU

Landholding Agency: Navy

Property Number: 77200610031

Status: Excess

Reasons: Secured Area

Bldgs. 1791, 1792

Naval Forces Marianas

Santa Rita Co: Apra Harbor GU

Landholding Agency: Navy

Property Number: 77200610032

Status: Excess

Reasons: Secured Area

Bldgs. 3000, 3001

Naval Forces Marianas

Santa Rita Co: Apra Harbor GU

Landholding Agency: Navy

Property Number: 77200610033

Status: Excess

Reasons: Secured Area

Bldgs. 3002, 3004, 3005

Naval Forces Marianas

Santa Rita Co: Apra Harbor GU

Landholding Agency: Navy

Property Number: 77200610034

Status: Excess

Reasons: Secured Area

Bldgs. 3006, 3007

Naval Forces Marianas

Santa Rita Co: Apra Harbor GU

Landholding Agency: Navy

Property Number: 77200610035

Status: Excess

Reasons: Secured Area

Steam Plant

Naval Forces Marianas

Santa Rita Co: Apra Harbor GU

Landholding Agency: Navy

Property Number: 77200610036

Status: Excess

Reasons: Secured Area

Bldgs. 403, 404

Marianas Support Activity

Santa Rita Co: Naval Magazine GU

Landholding Agency: Navy

Property Number: 77200620013

Status: Unutilized

Reasons: Secured Area

Bldgs. 464, 729

Marianas Support Activity

Santa Rita Co: Naval Magazine GU

Landholding Agency: Navy

Property Number: 77200620014

Status: Unutilized

Reasons: Secured Area

Bldgs. 836, 837

Marianas Support Activity

Santa Rita Co: Naval Magazine GU

Landholding Agency: Navy

Property Number: 77200620015

Status: Unutilized

Reasons: Extensive deterioration; Secured Area

Bldg. 11XC7

Marianas Support Activity

Santa Rita Co: Naval Magazine GU

Landholding Agency: Navy

Property Number: 77200620016

Status: Unutilized

Reasons: Extensive deterioration; Secured Area

Bldgs. 23YC1, 23YC2, 23YC3

Marianas Support Activity

Santa Rita Co: Naval Magazine GU

Landholding Agency: Navy

Property Number: 77200620017

Status: Unutilized

Reasons: Extensive deterioration; Secured Area

Bldgs. 23YC4, 23YC5

Marianas Support Activity

Santa Rita Co: Naval Magazine GU

Landholding Agency: Navy

Property Number: 77200620018

Status: Unutilized

Reasons: Extensive deterioration; Secured Area

Bldgs. 24YC7, 24YC8

Marianas Support Activity

Santa Rita Co: Naval Magazine GU

Landholding Agency: Navy

Property Number: 77200620019

Status: Unutilized

Reasons: Extensive deterioration; Secured Area

Bldgs. 26YC3, 26YC5

Marianas Support Activity

Santa Rita Co: Naval Magazine GU

Landholding Agency: Navy

Property Number: 77200620020

Status: Unutilized

Reasons: Extensive deterioration; Secured Area

Old Bus Stop

Marianas Support Activity

Santa Rita Co: Naval Magazine GU

Landholding Agency: Navy

Property Number: 77200620021

Status: Unutilized

Reasons: Extensive deterioration; Secured Area

2 Guard Houses

Marianas Support Activity

Santa Rita Co: Naval Magazine GU

Landholding Agency: Navy

Property Number: 77200620022

Status: Unutilized

Reasons: Secured Area; Extensive deterioration

9 Magazines

Marianas Support Activity

Santa Rita Co: Naval Magazine GU

Landholding Agency: Navy

Property Number: 77200620023

Status: Unutilized

Reasons: Secured Area; Extensive deterioration

Bldgs. 151, 152, 153

Naval Forces Marianas

Santa Rita Co: Apra Harbor GU

Landholding Agency: Navy

Property Number: 77200630001

Status: Unutilized

Reasons: Extensive deterioration

Bldg. 4

Naval Base

Barrigada GU

Landholding Agency: Navy

Property Number: 77200710002

Status: Unutilized

Reasons: Extensive deterioration

Bldg. C115

Naval Base

Barrigada GU

Landholding Agency: Navy

Property Number: 77200710003

Status: Unutilized

Reasons: Extensive deterioration

Bldg. 160

Naval Base

Barrigada GU

Landholding Agency: Navy

Property Number: 77200710004

Status: Unutilized

Reasons: Extensive deterioration

Bldg. 176

Naval Base

Barrigada GU

Landholding Agency: Navy

Property Number: 77200710005

Status: Unutilized

Reasons: Extensive deterioration

Bldg. 33

Naval Base

Santa Rita Co: Apra Harbor GU

Landholding Agency: Navy

Property Number: 77200710006

Status: Excess

Reasons: Extensive deterioration

Bldg. 219

Naval Base

Santa Rita Co: Apra Harbor GU

Landholding Agency: Navy

Property Number: 77200710007

Status: Excess

Reasons: Extensive deterioration

Bldg. 950

Naval Base

Santa Rita Co: Apra Harbor GU

Landholding Agency: Navy

Property Number: 77200710008

Status: Excess

Reasons: Extensive deterioration

Bldg. 1769

Naval Base

Santa Rita Co: Apra Harbor GU

Landholding Agency: Navy

Property Number: 77200710009

Status: Excess

Reasons: Extensive deterioration

Bldgs. 3186, 3187, 3188

Naval Base

Santa Rita Co: Apra Harbor GU

Landholding Agency: Navy

Property Number: 77200710010

Status: Excess

Reasons: Extensive deterioration

Bldgs. 4408, 4409

Naval Base

Santa Rita Co: Apra Harbor GU

Landholding Agency: Navy

Property Number: 77200710011

Status: Excess

Reasons: Extensive deterioration

Hazmat Storage

Naval Base

Polaris Point

Santa Rita Co: Apra Harbor GU

Landholding Agency: Navy

Property Number: 77200710012

Status: Excess

Reasons: Extensive deterioration

Storage Bldg.

Naval Base

Polaris Point

Santa Rita Co: Apra Harbor GU

Landholding Agency: Navy

Property Number: 77200710013

Status: Excess

Reasons: Extensive deterioration

Hawaii

Bldg. 346

Naval Station

Pearl Harbor HI 96860

Landholding Agency: Navy

Property Number: 77200610002

Status: Excess

Reasons: Extensive deterioration

Bank

Marine Corps Base

Kaneohe Bay HI 96863

Landholding Agency: Navy

Property Number: 77200830019

Status: Unutilized

Reasons: Secured Area

Bldgs. S378, 469

Naval Station

Ford Island

Pearl Harbor HI 96860

Landholding Agency: Navy

Property Number: 77200910005

Status: Underutilized

Reasons: Secured Area

Idaho

RCLR Facility

State Hwy 69

Meridian ID 83704

Landholding Agency: GSA

Property Number: 54200820014

Status: Excess

GSA Number: 9-U-ID-566

Reasons: Within 2000 ft. of flammable or explosive material

Indiana

Bldg. 62, VA Medical Center

East 38th Street

Marion Co: Grant IN 46952

Landholding Agency: VA

Property Number: 97199230003

Status: Excess

Reasons: Extensive deterioration

Louisiana

Bldgs. 37, 89, 122

Naval Air Station

New Orleans LA 70143

Landholding Agency: Navy

Property Number: 77200810024

Status: Excess

Reasons: Extensive deterioration; Secured Area

Bldgs. 159, 418, 902

Naval Air Station

New Orleans LA 70143

Landholding Agency: Navy

Property Number: 77200810025

Status: Excess

Reasons: Extensive deterioration; Secured Area

Bldg. 11

Naval Support Activity

New Orleans LA 70142

Landholding Agency: Navy

Property Number: 77200810027

Status: Excess

Reasons: Extensive deterioration; Secured Area

Maine

Bldgs. 1008, 1009, 1140, 1155

Schoodic Ed & Rsh Ctr

Acadia National Park

Hancock ME

Landholding Agency: Interior

Property Number: 61200830010

Status: Unutilized

Reasons: Extensive deterioration

Bldgs. 1208, 1223

Schoodic Ed & Rsh Ctr

Acadia National Park

Hancock ME

Landholding Agency: Interior

Property Number: 61200830014

Status: Unutilized

Reasons: Extensive deterioration

Bldgs. 89, 129, 131

Portsmouth Naval Shipyard

Kittery ME

Landholding Agency: Navy

Property Number: 77200840013

Status: Excess

Reasons: Secured Area

Maryland

Bldg. 84NS

Naval Support Activity

Annapolis Co: Anne Arundel MD 21402

Landholding Agency: Navy

Property Number: 77200610038

Status: Unutilized

Reasons: Within 2000 ft. of flammable or explosive material Floodway

Bldg. 2075

Naval Surface Warfare

Indian Head MD

Landholding Agency: Navy

Property Number: 77200630043

Status: Excess

Reasons: Extensive deterioration

Bldgs. 311, 565, 565A

Naval Support Activity

Annapolis MD 21402

Landholding Agency: Navy

Property Number: 77200910009

Status: Unutilized

Reasons: Extensive deterioration

Bldgs. 84NS, 232NS, 233NS

Naval Support Activity

Annapolis MD 21402

Landholding Agency: Navy

Property Number: 77200910010

Status: Unutilized

Reasons: Extensive deterioration

10 Bldgs.

Naval Support Activity

Annapolis MD 21402

Landholding Agency: Navy

Property Number: 77200910011

Status: Unutilized

Directions: NA273, NA68, NA69, NA254, 242NS, NA5, NA7, NA51, NA71, NA72

Reasons: Extensive deterioration

Massachusetts

Bldg. 5202

USCG Air Station

Bourne MA 02540

Landholding Agency: Coast Guard

Property Number: 88200810002

Status: Unutilized

Reasons: Extensive deterioration; Secured Area

3 Sheds

USCG Sector Southeastern

Falmouth MA 02543

Landholding Agency: Coast Guard

Property Number: 88200910001

Status: Unutilized

Reasons: Secured Area; Extensive deterioration

Westview Street Wells

Lexington MA 02173

Landholding Agency: VA

Property Number: 97199920001

Status: Unutilized

Reasons: Extensive deterioration

Michigan

Admin. Bldg.

Station Saginaw River

Essexville Co: Bay MI 48732

Landholding Agency: Coast Guard

Property Number: 88200510001

Status: Unutilized

Reasons: Extensive deterioration; Secured Area

Mississippi

Aircraft Hangar

State Hwy 61

Vicksburg MS

Landholding Agency: GSA

Property Number: 54200830019

Status: Excess

GSA Number: 4-D-MS-0565AA

Reasons: Within airport runway clear zone

Bldg. 9

Construction Battalion Center

Gulfport MS

Landholding Agency: Navy

Property Number: 77200610039

Status: Unutilized

Reasons: Extensive deterioration; Secured Area

Bldgs. 22, 27, 41

Construction Battalion Center

Gulfport MS

Landholding Agency: Navy

Property Number: 77200610040

Status: Unutilized

Reasons: Extensive deterioration; Secured Area

Bldgs. 108, 181, 183

Construction Battalion Center

Gulfport MS

Landholding Agency: Navy

Property Number: 77200610041

Status: Unutilized

Reasons: Extensive deterioration; Secured Area

Bldg. 201

Construction Battalion Center

Gulfport MS

Landholding Agency: Navy

Property Number: 77200610042

Status: Unutilized

Reasons: Secured Area; Extensive deterioration

Bldgs. 270, 270A-1, 270A-2

Construction Battalion Center

Gulfport MS

Landholding Agency: Navy

Property Number: 77200610043

Status: Unutilized

Reasons: Extensive deterioration; Secured Area

Bldgs. 375, 420

Construction Battalion Center

Gulfport MS

Landholding Agency: Navy

Property Number: 77200610044

Status: Unutilized

Reasons: Secured Area; Extensive deterioration

Bldgs. 95, 96

Naval Air Station

Meridian MS 39309

Landholding Agency: Navy

Property Number: 77200720046

Status: Unutilized

Reasons: Within airport runway clear zone; Secured Area; Within 2000 ft. of flammable or explosive material

Bldg. 167

Naval Air Station

Meridian MS 39309

Landholding Agency: Navy

Property Number: 77200720047

Status: Unutilized

Reasons: Secured Area

Bldgs. 212, 228

Naval Air Station

Meridian MS 39309

Landholding Agency: Navy

Property Number: 77200720048

Status: Unutilized

Reasons: Secured Area

Bldgs. 266, 267

Naval Air Station

Meridian MS 39309

Landholding Agency: Navy

Property Number: 77200720049

Status: Unutilized

Reasons: Secured Area

Bldgs. 351, 445

Naval Air Station

Meridian MS 39309

Landholding Agency: Navy

Property Number: 77200720050

Status: Unutilized

Reasons: Secured Area

Bldgs. 182, 183

Naval Air Station

Meridian MS 39309

Landholding Agency: Navy

Property Number: 77200810014

Status: Unutilized

Reasons: Secured Area

Bldgs. 222, 230, 326

Naval Air Station

Meridian MS 39309

Landholding Agency: Navy

Property Number: 77200810015

Status: Unutilized

Reasons: Secured Area

Bldg. 6, Boiler Plant

Biloxi VA Medical Center

Gulfport Co: Harrison MS 39531

Landholding Agency: VA

Property Number: 97199410001

Status: Unutilized

Reasons: Floodway

Bldg. 67

Biloxi VA Medical Center

Gulfport Co: Harrison MS 39531

Landholding Agency: VA

Property Number: 97199410008

Status: Unutilized

Reasons: Extensive deterioration

Bldg. 68

Biloxi VA Medical Center

Gulfport Co: Harrison MS 39531

Landholding Agency: VA

Property Number: 97199410009

Status: Unutilized

Reasons: Extensive deterioration

Missouri

Bldg. 3

VA Medical Center

Jefferson Barracks Division

St. Louis MO 63125

Landholding Agency: VA

Property Number: 97200340001

Status: Underutilized

Reasons: Secured Area

Bldg. 4

VA Medical Center

Jefferson Barracks Division

St. Louis MO

Landholding Agency: VA

Property Number: 97200340002

Status: Underutilized

Reasons: Secured Area

Bldg. 27

VA Medical Center

Jefferson Barracks Division

St. Louis MO 63125

Landholding Agency: VA

Property Number: 97200340003

Status: Underutilized

Reasons: Secured Area

Bldg. 28

VA Medical Center

Jefferson Barracks Division

St. Louis MO 63125

Landholding Agency: VA

Property Number: 97200340004

Status: Underutilized

Reasons: Secured Area

Bldg. 29

VA Medical Center

Jefferson Barracks Division

St. Louis MO 63125

Landholding Agency: VA

Property Number: 97200340005

Status: Underutilized

Reasons: Secured Area

Bldg. 50

VA Medical Center

Jefferson Barracks Division

St. Louis MO 63125

Landholding Agency: VA

Property Number: 97200340006

Status: Underutilized

Reasons: Secured Area

Nevada

3 Bldgs.

Nevada Test Site

23-790, 06-CP50, 26-2107

Mercury Co: Nye, NV 89023

Landholding Agency: Navy

Property Number: 77200510025

Status: Excess

Reasons: Other—contamination; Secured Area

Units 501-521

Naval Air Station

Fallon, NV

Landholding Agency: Navy

Property Number: 77200710017

Status: Excess

Reasons: Secured Area

New Jersey

Bldgs. 105, 111, 266

Naval Air Eng. Station

Lakehurst, NJ 08733

Landholding Agency: Navy

Property Number: 77200820001

Status: Unutilized

Reasons: Extensive deterioration; Secured Area

Bldgs. 464, 480

Naval Air Eng. Station

Lakehurst, NJ 08733

Landholding Agency: Navy

Property Number: 77200820002

Status: Unutilized

Reasons: Extensive deterioration; Secured Area

Bldgs. 539, 560, 565

Naval Air Eng. Station

Lakehurst, NJ 08733

Landholding Agency: Navy

Property Number: 77200820003

Status: Unutilized

Reasons: Extensive deterioration; Secured Area

Bldgs. 395, 468

Naval Air Engineering Station

Lakehurst, NJ 08733

Landholding Agency: Navy

Property Number: 77200910018

Status: Unutilized

Reasons: Extensive deterioration; Secured Area

Bldgs. 395, 468

Naval Air Eng. Station

Lakehurst, NJ 08733

Landholding Agency: Navy

Property Number: 77200910022

Status: Unutilized

Reasons: Secured Area; Extensive deterioration

Bldg. 566

Naval Weapons Station

Colts Neck, NJ 07722

Landholding Agency: Navy

Property Number: 77200910023

Status: Unutilized

Reasons: Secured Area; Within 2000 ft. of flammable or explosive material

New York

Bldg. 13

USCG Staten Island

Suffolk, NY 10305

Landholding Agency: Coast Guard

Property Number: 88200910002

Status: Excess

Reasons: Extensive deterioration; Secured Area

North Carolina

Frying Pan Light Station

Atlantic Ocean, NC

Landholding Agency: GSA

Property Number: 54200830004

Status: Excess

GSA Number: 4-U-NC-0749

Reasons: Floodway; Not accessible by road

Bldg. 82

Marine Corps Air Station

Cherry Point Co: Craven, NC 28533

Landholding Agency: Navy

Property Number: 77200510009

Status: Underutilized

Reasons: Secured Area

Bldg. 4314

Marine Corps Air Station

Cherry Point Co: Craven, NC 28533

Landholding Agency: Navy

Property Number: 77200510010

Status: Underutilized

Reasons: Secured Area

Bldg. 124

Marine Corps Air Station

Cherry Point Co: Craven, NC 28533

Landholding Agency: Navy

Property Number: 77200510023

Status: Underutilized

Reasons: Secured Area

Bldgs. 73, 95, 1018

Marine Corps Air Station

Cherry Point, NC

Landholding Agency: Navy

Property Number: 77200620003

Status: Unutilized

Reasons: Secured Area

Bldg. 499

Marine Corps Air Station

Cherry Point, NC

Landholding Agency: Navy

Property Number: 77200620038

Status: Unutilized

Reasons: Secured Area

Bldgs. 3177, 3885

Marine Corps Air Station

Cherry Point, NC

Landholding Agency: Navy

Property Number: 77200620039

Status: Unutilized

Reasons: Secured Area

Bldg. 4473

Marine Corps Air Station

Cherry Point, NC

Landholding Agency: Navy

Property Number: 77200620040

Status: Unutilized

Reasons: Secured Area

Bldg. 4523

Marine Corps Air Station

Cherry Point, NC

Landholding Agency: Navy

Property Number: 77200620041

Status: Unutilized

Reasons: Secured Area

RPFN 0S1

Group Cape Hatteras

Buxton Co: Dare, NC 27902

Landholding Agency: Coast Guard

Property Number: 88200540001

Status: Unutilized

Reasons: Secured Area; Extensive deterioration

RPFN 053

Sector N.C.

Atlantic Beach Co: Carteret, NC 28512

Landholding Agency: Coast Guard

Property Number: 88200540002

Status: Unutilized

Reasons: Secured Area; Extensive deterioration

Equip. Bldg.

Coast Guard Station

11101 Station St.

Emerald Isle, NC

Landholding Agency: Coast Guard

Property Number: 88200630001

Status: Unutilized

Reasons: Secured Area

Bldg. 9

VA Medical Center

1100 Tunnel Road

Asheville Co: Buncombe, NC 28805

Landholding Agency: VA

Property Number: 97199010008

Status: Unutilized

Reasons: Extensive deterioration

Ohio

National Guard Facility

1512 Oak Harbor Rd.

Fremont, OH 43420

Landholding Agency: GSA

Property Number: 54200830006

Status: Excess

GSA Number: 1-D-OH-834

Reasons: Within 2000 ft. of flammable or explosive material

Naval Reserve Center

Cleveland, OH 44114

Landholding Agency: Coast Guard

Property Number: 88200740002

Status: Unutilized

Reasons: Secured Area; Within airport runway clear zone; Within 2000 ft. of flammable or explosive material

Bldg. 105

VA Medical Center

Dayton Co: Montgomery, OH 45428

Landholding Agency: VA

Property Number: 97199920005

Status: Unutilized

Reasons: Extensive deterioration

Pennsylvania

4 Tracts

101-03, 101-04, 101-05, 101-06

Valley Forge NHP

King of Prussia, PA 19406

Landholding Agency: Interior

Property Number: 61200830005

Status: Excess

Reasons: Extensive deterioration

Tracts 101-28, 101-29

Valley Forge NHP

Wayne, PA 19480

Landholding Agency: Interior

Property Number: 61200830006

Status: Excess

Reasons: Extensive deterioration

Bldgs. 13, 90, 93, 97

Naval Support Activity

Philadelphia, PA 19111

Landholding Agency: Navy

Property Number: 77200820012

Status: Excess

Reasons: Secured Area; Extensive deterioration

Bldgs. 431, 483

Naval Support Activity

Philadelphia, PA 19111

Landholding Agency: Navy

Property Number: 77200820013

Status: Excess

Reasons: Extensive deterioration; Within 2000 ft. of flammable or explosive material

Bldgs. 530, 534, 567, 585

Naval Support Activity

Philadelphia, PA 19111

Landholding Agency: Navy

Property Number: 77200820014

Status: Excess

Reasons: Extensive deterioration; Within 2000 ft. of flammable or explosive material

Bldgs. 618, 743

Naval Support Activity

Philadelphia, PA 19111

Landholding Agency: Navy

Property Number: 77200820015

Status: Excess

Reasons: Extensive deterioration

7 Bldgs.

Naval Support Activity

Philadelphia, PA

Landholding Agency: Navy

Property Number: 77200910019

Status: Excess

Directions: 9, 37, 619, 626, 636, 662, 947

Reasons: Secured Area

Rhode Island

Bldg. 305CP

Naval Station

Newport, RI 02841

Landholding Agency: Navy

Property Number: 77200820004

Status: Excess

Reasons: Extensive deterioration; Secured Area

Bldg. 1A-CC

Naval Station

Newport, RI 02841

Landholding Agency: Navy

Property Number: 77200820022

Status: Excess

Reasons: Secured Area

Bldg. 164

Naval Station

Newport, RI 02841

Landholding Agency: Navy

Property Number: 77200820036

Status: Excess

Reasons: Secured Area; Within 2000 ft. of flammable or explosive material; Floodway

Bldgs. 348, 85CHI

Naval Station

Newport, RI

Landholding Agency: Navy

Property Number: 77200820043

Status: Unutilized

Reasons: Secured Area

Facility 670

Naval Station

Harbor Island

Newport, RI 02841

Landholding Agency: Navy

Property Number: 77200820044

Status: Excess

Reasons: Secured Area; Extensive deterioration

Bldgs. A105, 1323

Naval Station

Newport, RI 02842

Landholding Agency: Navy

Property Number: 77200840015

Status: Excess

Reasons: Extensive deterioration

Bldgs. 391, 400, 658

Naval Station

Newport RI 02842

Landholding Agency: Navy

Property Number: 77200840016

Status: Excess

Reasons: Extensive deterioration; Secured Area

South Carolina

7 Bldgs.

Ft. Jackson

Richland SC 29207

Landholding Agency: Army

Property Number: 21200910001

Status: Excess

Directions: D5435, D5439, D5440, D5442, D5443, D5447, D5448

Reasons: Extensive deterioration; Secured Area

5 Bldgs.

Ft. Jackson

Richland SC 29207

Landholding Agency: Army

Property Number: 21200910002

Status: Excess

Directions: F6028, F6033, F6365, F6796, F7846

Reasons: Secured Area

5 Bldgs.

Ft. Jackson

Richland SC 29207

Landholding Agency: Army

Property Number: 21200910003

Status: Excess

Directions: G7352, G7846, H3206, H3207, H7373

Reasons: Secured Area

6 Bldgs.

Ft. Jackson

Richland SC 29207

Landholding Agency: Army

Property Number: 21200910004

Status: Excess

Directions: J5961, J5962, N7654, O7154, O7164, P8654

Reasons: Secured Area

Bldgs. 1000 thru 1021

Naval Weapons Station

Goose Creek Co: Berkeley SC 29445

Landholding Agency: Navy

Property Number: 77200440018

Status: Unutilized

Reasons: Secured Area

Bldg. 102

Marine Corps Recruit Depot

Parris Island Co: Beaufort SC 29905

Landholding Agency: Navy

Property Number: 77200530017

Status: Unutilized

Reasons: Secured Area; Floodway; Extensive deterioration

21 Bldgs.

Naval Weapons Station

Goose Creek Co: Berkely SC 29445

Landholding Agency: Navy

Property Number: 77200620034

Status: Unutilized

Directions: 4, 167C, 174, 180, 350, 383, 400, 410, 769, 790, 823, 824, 904, 930, 930A, 953, 953A, 971, 975, 2305, 3526

Reasons: Within 2000 ft. of flammable or explosive material; Secured Area

Bldg. 1148

Naval Weapons Station

Goose Creek Co: Berkeley SC 29445

Landholding Agency: Navy

Property Number: 77200630044

Status: Excess

Reasons: Extensive deterioration

Bldg. 200

Marine Corps Recruit Depot

Parris Island SC 29905

Landholding Agency: Navy

Property Number: 77200720018

Status: Unutilized

Reasons: Secured Area; Floodway

Bldgs. 908, 1ATX211-1ATX220

Naval Weapons Station

Goose Creek SC 29445

Landholding Agency: Navy

Property Number: 77200810029

Status: Unutilized

Reasons: Secured Area; Within 2000 ft. of flammable or explosive material

Bldgs. 40, 48, 856

Naval Weapons Station

Goose Creek SC 29445

Landholding Agency: Navy

Property Number: 77200810030

Status: Unutilized

Reasons: Secured Area; Within 2000 ft. of flammable or explosive material

Bldgs. 934, 2333

Naval Weapons Station

Goose Creek SC 29445

Landholding Agency: Navy

Property Number: 77200810031

Status: Unutilized

Reasons: Within 2000 ft. of flammable or explosive material; Secured Area

Tennessee

4 Bldgs.

Y-12 Natl Security Complex

Oak Ridge TN 37831

Landholding Agency: Energy

Property Number: 41200910001

Status: Unutilized

Directions: 9201-05, 9622, 9769, 9983-HP

Reasons: Secured Area

Bldgs. 2, 3, 5

Naval/Marine Corps Rsv Ctr

Knoxville Co: Knox TN 37920

Landholding Agency: Navy

Property Number: 77200530018

Status: Unutilized

Reasons: Extensive deterioration; Secured Area

Bldgs. 9720-03, 9720-06

Y-12 Natl Nuclear Security Complex

Oak Ridge TN 37831

Landholding Agency: Navy

Property Number: 77200720038

Status: Unutilized

Reasons: Secured Area

Texas

Bldg. 1732

Naval Air Station

Corpus Christi Co: Nueces TX

Landholding Agency: Navy

Property Number: 77200540007

Status: Excess

Reasons: Secured Area; Extensive deterioration

Bldg. 243

Naval Air Station Joint Reserve Base

Ft. Worth Co: Tarrant TX 76127

Landholding Agency: Navy

Property Number: 77200640035

Status: Unutilized

Reasons: Extensive deterioration; Secured Area

Bldg. 1430

Naval Air Station Joint Reserve Base

Ft. Worth Co: Tarrant TX 76127

Landholding Agency: Navy

Property Number: 77200640036

Status: Unutilized

Reasons: Secured Area; Extensive deterioration

Bldg. 1500

Naval Air Station Joint Reserve Base

Ft. Worth Co: Tarrant TX 76127

Landholding Agency: Navy

Property Number: 77200640037

Status: Unutilized

Reasons: Secured Area; Extensive deterioration

Bldg. 4151

Naval Air Station Joint Reserve Base

Ft. Worth Co: Tarrant TX 76127

Landholding Agency: Navy

Property Number: 77200640038

Status: Unutilized

Reasons: Secured Area; Extensive deterioration

Bldgs. 3379, 3380

Naval Air Station

Ft. Worth Co: Tarrant TX 76127

Landholding Agency: Navy

Property Number: 77200810023

Status: Unutilized

Reasons: Extensive deterioration; Secured Area

Bldgs. 1414, 3190

Naval Air Station

Joint Reserve Base

Ft. Worth TX 76127

Landholding Agency: Navy

Property Number: 77200830031

Status: Unutilized

Reasons: Secured Area

Utah

5 Bldgs.

Naval Industrial Ordnance Plant

Magna UT 84044

Landholding Agency: Navy

Property Number: 77200720033

Status: Unutilized

Directions: 4D, 6A, 6C, 8C, 10B

Reasons: Secured Area; Within 2000 ft. of flammable or explosive material

4 Bldgs.

Naval Industrial Ordnance Plant

Magna UT 84044

Landholding Agency: Navy

Property Number: 77200720034

Status: Unutilized

Directions: 11, 15, 16, 19

Reasons: Secured Area; Within 2000 ft. of flammable or explosive material

Bldgs. 22A, 22B, 22C

Naval Industrial Ordnance Plant

Magna UT 84044

Landholding Agency: Navy

Property Number: 77200720035

Status: Unutilized

Reasons: Secured Area; Within 2000 ft. of flammable or explosive material

Bldgs. 23A, 23B, 23C

Naval Industrial Ordnance Plant

Magna UT 84044

Landholding Agency: Navy

Property Number: 77200720036

Status: Unutilized

Reasons: Secured Area; Within 2000 ft. of flammable or explosive material

4 Bldgs.

Naval Industrial Ordnance Plant

Magna UT 84044

Landholding Agency: Navy

Property Number: 77200720037

Status: Unutilized

Directions: 33, 45B, 45C, 46D

Reasons: Secured Area; Within 2000 ft. of flammable or explosive material

Virginia

Bldgs. 500, 501

Naval Weapon Station

Yorktown VA 23691

Landholding Agency: Navy

Property Number: 77200640012

Status: Excess

Reasons: Extensive deterioration

Bldg. 628

Naval Weapon Station

Yorktown VA 23691

Landholding Agency: Navy

Property Number: 77200640013

Status: Excess

Reasons: Extensive deterioration

Bldg. 2398

Naval Station

Norfolk VA

Landholding Agency: Navy

Property Number: 77200730021

Status: Excess

Reasons: Secured Area

Bldgs. 375, 502, 502A

Naval Weapons Station

Yorktown VA 23691

Landholding Agency: Navy

Property Number: 77200810002

Status: Excess

Reasons: Extensive deterioration; Secured Area

Bldgs. 503, 503A, 504

Naval Weapons Station

Yorktown VA 23691

Landholding Agency: Navy

Property Number: 77200810003

Status: Excess

Reasons: Secured Area; Extensive deterioration

Bldgs. 505, 505A

Naval Weapons Station

Yorktown VA 23691

Landholding Agency: Navy

Property Number: 77200810004

Status: Excess

Reasons: Extensive deterioration; Secured Area

Bldgs. 1213, 1979

Naval Weapons Station

Yorktown VA 23691

Landholding Agency: Navy

Property Number: 77200810005

Status: Excess

Reasons: Extensive deterioration; Secured Area

Bldgs. 2007, 2008

Naval Weapons Station

Yorktown VA 23691

Landholding Agency: Navy

Property Number: 77200810006

Status: Excess

Reasons: Extensive deterioration; Secured Area

Bldgs. 439, 466

Naval Weapon Station

Yorktown VA 23691

Landholding Agency: Navy

Property Number: 77200820016

Status: Excess

Reasons: Secured Area

Bldgs. 760, 761

Naval Weapon Station

Yorktown VA 23691

Landholding Agency: Navy

Property Number: 77200820017

Status: Excess

Reasons: Secured Area

Bldgs. 1820, 1895

Naval Weapon Station

Yorktown VA 23691

Landholding Agency: Navy

Property Number: 77200820018

Status: Excess

Reasons: Secured Area

Bldgs. 1977, 1978, 1983

Naval Weapon Station

Yorktown VA 23691

Landholding Agency: Navy

Property Number: 77200820019

Status: Excess

Reasons: Secured Area

Bldg. CAD-RR

Naval Weapon Station

Yorktown VA 23691

Landholding Agency: Navy

Property Number: 77200820020

Status: Excess

Reasons: Secured Area

Bldg. 3186

Naval Amphibious Base

Little Creek Co: Norfolk VA

Landholding Agency: Navy

Property Number: 77200840006

Status: Unutilized

Reasons: Secured Area

Bldg. NAB757

Naval Amphibious Little Creek

Norfolk VA

Landholding Agency: Navy

Property Number: 77200840008

Status: Unutilized

Reasons: Secured Area

19 Ammunition Bunkers

Naval Weapon Station

Ammo Plant 1 & 2

Yorktown VA 23691

Landholding Agency: Navy

Property Number: 77200840009

Status: Excess

Reasons: Secured Area; Extensive deterioration

11 Bldgs.

Naval Weapon Station

Yorktown VA 23691

Landholding Agency: Navy

Property Number: 77200840019

Status: Excess

Directions: 10, 11, 97, 97A, 98, 472, 526, 527, 528, 528A, 1592

Reasons: Secured Area; Extensive deterioration

8 Bldgs.

Naval Weapon Station

Yorktown VA 23691

Landholding Agency: Navy

Property Number: 77200840020

Status: Excess

Directions: 109, 110, 500A, 501A, 627, 629, 1249, 1462

Reasons: Secured Area; Extensive deterioration

5 Bldgs.

Naval Amphibious Base

Norfolk VA

Landholding Agency: Navy

Property Number: 77200840021

Status: Unutilized

Directions: 3375, 3420, 3550, 3695, 3891

Reasons: Secured Area; Extensive deterioration

Bldg. 3605

Naval Amphibious

Little Creek

Norfolk VA

Landholding Agency: Navy

Property Number: 77200910020

Status: Unutilized

Reasons: Secured Area

Training Bldg.

USCG Integrated Support Ctr

Portsmouth Co: Norfolk VA 43703

Landholding Agency: Coast Guard

Property Number: 88200530001

Status: Excess

Reasons: Secured Area

Bldg. 011

Integrated Support Center

Portsmouth Co: Norfolk VA 43703

Landholding Agency: Coast Guard

Property Number: 88200620002

Status: Excess

Reasons: Secured Area

9 Bldgs.

USCG Cape Charles Station

Winters Quarters

Northampton VA 23310

Landholding Agency: Coast Guard

Property Number: 88200740001

Status: Unutilized

Reasons: Extensive deterioration

Navigation Center Trailer

USCG TISCOM

Alexandria VA 22315

Landholding Agency: Coast Guard

Property Number: 88200820003

Status: Excess

Reasons: Secured Area

Washington

Defense Fuel Supply Point

18 structures/21 acres

Mukilteo WA

Landholding Agency: Air Force

Property Number: 18200910001

Status: Unutilized

Reasons: Extensive deterioration

Bldg. 529

Puget Sound Naval Shipyard

Bremerton WA 98314-5000

Landholding Agency: Navy

Property Number: 77200040020

Status: Excess

Reasons: Secured Area

Bldg. 8

Naval Reserve Center

Spokane WA 99205

Landholding Agency: Navy

Property Number: 77200430025

Status: Excess

Reasons: Extensive deterioration; Secured Area

Bldgs. 10, 11

Naval Reserve Center

Spokane WA 99205

Landholding Agency: Navy

Property Number: 77200430026

Status: Excess

Reasons: Extensive deterioration; Secured Area

Bldgs. 2656-2658

Naval Air Station

Lake Hancock

Coupeville Co: Island WA 98239

Landholding Agency: Navy

Property Number: 77200430027

Status: Unutilized

Reasons: Secured Area

Bldgs. 2652, 2705

Naval Air Station

Whidbey

Oak Harbor WA 98277

Landholding Agency: Navy

Property Number: 77200440010

Status: Unutilized

Reasons: Secured Area

Bldgs. 79, 884

NAS Whidbey Island

Seaplane Base

Oak Harbor WA 98277

Landholding Agency: Navy

Property Number: 77200440011

Status: Unutilized

Reasons: Secured Area

Bldg. 121

NAS Whidbey Island

Ault Field

Oak Harbor WA 98277

Landholding Agency: Navy

Property Number: 77200440012

Status: Unutilized

Reasons: Secured Area

Bldg. 419

NAS Whidbey Island

Ault Field

Oak Harbor WA 98277

Landholding Agency: Navy

Property Number: 77200440013

Status: Unutilized

Reasons: Secured Area

Bldgs. 2609, 2610

NAS Whidbey Island

Ault Field

Oak Harbor WA 98277

Landholding Agency: Navy

Property Number: 77200440014

Status: Unutilized

Reasons: Secured Area

Bldg. 2753

NAS Whidbey Island

Ault Field

Oak Harbor WA 98277

Landholding Agency: Navy

Property Number: 77200440015

Status: Unutilized

Reasons: Secured Area

Bldg. 108

Naval Magazine

Port Hadlock Co: Jefferson WA 98339-9723

Landholding Agency: Navy

Property Number: 77200510015

Status: Unutilized

Reasons: Extensive deterioration; Secured Area

Bldg. 351

Puget Sound Naval Shipyard

Bremerton WA 98314

Landholding Agency: Navy

Property Number: 77200530026

Status: Unutilized

Reasons: Secured Area; Within 2000 ft. of flammable or explosive material

Bldg. 1032

Naval Base

Bangor Tower Site

Silverdale WA 98315

Landholding Agency: Navy

Property Number: 77200630045

Status: Unutilized

Reasons: Within 2000 ft. of flammable or explosive material; Secured Area

Bldg. 71

Naval Magazine

Port Hadlock Co: Jefferson WA 98339-9723

Landholding Agency: Navy

Property Number: 77200640007

Status: Unutilized

Reasons: Extensive deterioration; Secured Area

Bldgs. 82, 83

Naval Magazine

Port Hadlock Co: Jefferson WA 98339-9723

Landholding Agency: Navy

Property Number: 77200640008

Status: Unutilized

Reasons: Extensive deterioration; Secured Area

Bldgs. 168, 188

Naval Magazine

Port Hadlock Co: Jefferson WA 98339-9723

Landholding Agency: Navy

Property Number: 77200640009

Status: Unutilized

Reasons: Secured Area; Extensive deterioration

Bldg. 729

Naval Magazine

Port Hadlock Co: Jefferson WA 98339-9723

Landholding Agency: Navy

Property Number: 77200640010

Status: Unutilized

Reasons: Secured Area; Extensive deterioration

Bldgs. 910, 921

Naval Magazine

Port Hadlock Co: Jefferson WA 98339-9723

Landholding Agency: Navy

Property Number: 77200640011

Status: Unutilized

Reasons: Extensive deterioration; Secured Area

Bldgs. 407, 447

Naval Base

Bremerton Co: Kitsap WA 98310

Landholding Agency: Navy

Property Number: 77200640014

Status: Excess

Reasons: Secured Area

Bldg. 867

Naval Base

Bremerton Co: Kitsap WA 98310

Landholding Agency: Navy

Property Number: 77200640015

Status: Excess

Reasons: Secured Area

Bldgs. 937, 975

Naval Base

Bremerton Co: Kitsap WA 98310

Landholding Agency: Navy

Property Number: 77200640016

Status: Excess

Reasons: Secured Area

Bldg. 1449

Naval Base

Silverdale Co: Kitsap WA 98315

Landholding Agency: Navy

Property Number: 77200640017

Status: Unutilized

Reasons: Secured Area

Bldg. 1670

Naval Base

Silverdale Co: Kitsap WA 98315

Landholding Agency: Navy

Property Number: 77200640018

Status: Unutilized

Reasons: Secured Area

Bldgs. 2007, 2801

Naval Base

Silverdale Co: Kitsap WA 98315

Landholding Agency: Navy

Property Number: 77200640019

Status: Unutilized

Reasons: Secured Area

Bldgs. 6021, 6095

Naval Base

Silverdale Co: Kitsap WA 98315

Landholding Agency: Navy

Property Number: 77200640020

Status: Unutilized

Reasons: Secured Area

Bldgs. 6606, 6661

Naval Base

Silverdale Co: Kitsap WA 98315

Landholding Agency: Navy

Property Number: 77200640021

Status: Unutilized

Reasons: Secured Area

Bldgs. 726, 727, 734

Naval Undersea Warfare

Keyport Co: Kitsap WA 98345

Landholding Agency: Navy

Property Number: 77200640022

Status: Unutilized

Reasons: Within 2000 ft. of flammable or explosive material; Secured Area

Bldgs. 901, 911

Naval Undersea Warfare

Keyport Co: Kitsap WA 98345

Landholding Agency: Navy

Property Number: 77200640023

Status: Unutilized

Reasons: Within 2000 ft. of flammable or explosive material; Secured Area

Bldgs. 925, 938

Naval Undersea Warfare

Keyport Co: Kitsap WA 98345

Landholding Agency: Navy

Property Number: 77200640024

Status: Unutilized

Reasons: Secured Area; Within 2000 ft. of flammable or explosive material

Bldg. 1020

Naval Undersea Warfare

Keyport Co: Kitsap WA 98345

Landholding Agency: Navy

Property Number: 77200640025

Status: Unutilized

Reasons: Secured Area; Within 2000 ft. of flammable or explosive material

Fisher Transit Site

Easement

Jefferson WA

Landholding Agency: Navy

Property Number: 77200710015

Status: Excess

Reasons: Other—Remote Location

Bldgs. 437, 853

Naval Base

Bremerton Co: Kitsap WA 98310

Landholding Agency: Navy

Property Number: 77200710018

Status: Unutilized

Reasons: Secured Area

Bldg. 1039

Naval Base

Bremerton Co: Kitsap WA 98310

Landholding Agency: Navy

Property Number: 77200710019

Status: Unutilized

Reasons: Within 2000 ft. of flammable or explosive material; Secured Area

Bldgs. 1400, 1461

Naval Base

Bremerton Co: Kitsap WA 98310

Landholding Agency: Navy

Property Number: 77200710020

Status: Unutilized

Reasons: Within 2000 ft. of flammable or explosive material; Secured Area

Bldg. 6026

Naval Base

Bremerton Co: Kitsap WA 98310

Landholding Agency: Navy

Property Number: 77200710021

Status: Unutilized

Reasons: Secured Area; Within 2000 ft. of flammable or explosive material

Bldgs. 6608, 6609, 6904

Naval Base

Bremerton Co: Kitsap WA 98310

Landholding Agency: Navy

Property Number: 77200710022

Status: Unutilized

Reasons: Within 2000 ft. of flammable or explosive material; Secured Area

Bldgs. 110, 116

Naval Air Station

Oak Harbor WA 98278

Landholding Agency: Navy

Property Number: 77200740013

Status: Excess

Reasons: Secured Area

Bldg. 839

Puget Sound Naval Shipyard

Bremerton WA 98314

Landholding Agency: Navy

Property Number: 77200740014

Status: Excess

Reasons: Within 2000 ft. of flammable or explosive material; Secured Area

Bldgs. 402, 403, 2634

Naval Air Station

Oak Harbor Co: Whidbey Island WA 96278

Landholding Agency: Navy

Property Number: 77200810020

Status: Excess

Reasons: Extensive deterioration

Bldg. 7658

Naval Base

Bangor WA

Landholding Agency: Navy

Property Number: 77200830017

Status: Excess

Reasons: Secured Area; Extensive deterioration

Bldgs. 986, 987

Naval Air Station

Whidbey Island

Oak Harbor WA 98278

Landholding Agency: Navy

Property Number: 77200840001

Status: Unutilized

Reasons: Secured Area

Bldg. 94

Naval Air Station

Whidbey Island

Oak Harbor WA 98278

Landholding Agency: Navy

Property Number: 77200840002

Status: Excess

Reasons: Secured Area

Bldgs. 20, 62, 2616, 2663

Naval Air Station

Whidbey Island WA

Landholding Agency: Navy

Property Number: 77200840017

Status: Excess

Reasons: Secured Area

SSA Federal Bldg.

304 Otter Ave.

Oshkosh WI 54901

Landholding Agency: GSA

Property Number: 54200820001

Status: Excess

GSA Number: 1-G-WI-603

Reasons: Within 2000 ft. of flammable or explosive material

Bldg. OV1

USCG Station

Bayfield WI 54814

Landholding Agency: Coast Guard

Property Number: 88200620001

Status: Excess

Reasons: Secured Area

Land

Alabama

Lock & Dam No.12/Boatyard

Black Warrior River

Tuscaloosa AL

Landholding Agency: GSA

Property Number: 54200830021

Status: Excess

GSA Number: 4-D-AL-0777

Reasons: Floodway

Arizona

58 acres

VA Medical Center

500 Highway 89 North

Prescott Co: Yavapai AZ 86313

Landholding Agency: VA

Property Number: 97190630001

Status: Unutilized

Reasons: Floodway

20 acres

VA Medical Center

500 Highway 89 North

Prescott Co: Yavapai AZ 86313

Landholding Agency: VA

Property Number: 97190630002

Status: Underutilized

Reasons: Floodway

California

Prospect Island

Solano CA 95690

Landholding Agency: GSA

Property Number: 54200910001

Status: Surplus

GSA Number: 9-I-CA-1674

Reasons: Floodway

Parcel L1

George AFB

Victorville CA 92394

Landholding Agency: GSA

Property Number: 54200910005

Status: Excess

GSA Number: 9-D-CA-06283

Reasons: Other—landlocked

Trailer Space

Naval Base

San Diego CA

Landholding Agency: Navy

Property Number: 77200520013

Status: Unutilized

Reasons: Secured Area

Parcels 1, 2, 3, 4

Naval Base

Port Hueneme Co: Ventura CA 93043

Landholding Agency: Navy

Property Number: 77200630003

Status: Underutilized

Reasons: Secured Area

Parcels 11, 12, 13, 14, 15

Naval Base

Port Hueneme Co: Ventura CA 93043

Landholding Agency: Navy

Property Number: 77200630004

Status: Underutilized

Reasons: Secured Area

Sand Spit

Naval Base

Port Hueneme Co: Ventura CA 93043

Landholding Agency: Navy

Property Number: 77200720008

Status: Underutilized

Reasons: Floodway

Florida

Encroachment No. GB-37

Perdido Key Co: Escambia FL

Landholding Agency: GSA

Property Number: 54200810009

Status: Excess

GSA Number: 4-D-FL-6208AB

Reasons: Floodway

Wildlife Sanctuary, VAMC

10,000 Bay Pines Blvd.

Bay Pines Co: Pinellas FL 33504

Landholding Agency: VA

Property Number: 97199230004

Status: Underutilized

Reasons: Other—Inaccessible

Georgia

Tract J-916

Allatoona Operations Project

Canton GA

Landholding Agency: GSA

Property Number: 54200820010

Status: Excess

GSA Number: 4-D-GA-0424AB

Reasons: Floodway

Hawaii

14.235 parcel

Marine Corps Base

Kaneohe HI 96863

Landholding Agency: Navy

Property Number: 77200830020

Status: Unutilized

Reasons: Secured Area

Indiana

approx. 0.2 acre

Naval Support Activity

Crane IN 47522

Landholding Agency: Navy

Property Number: 77200910006

Status: Underutilized

Reasons: Secured Area; Within 2000 ft. of flammable or explosive material

Kentucky

Craigs Creek Access Site

Markland Locks & Dam

Gallatin KY 41095

Landholding Agency: GSA

Property Number: 54200910002

Status: Excess

GSA Number: 4-D-KY-0623AA

Reasons: Floodway

Minnesota

3.85 acres (Area #2)

VA Medical Center

4801 8th Street

St. Cloud Co: Stearns MN 56303

Landholding Agency: VA

Property Number: 97199740004

Status: Unutilized

Reasons: Other—landlocked

7.48 acres (Area #1)

VA Medical Center

4801 8th Street

St. Cloud Co: Stearns MN 56303

Landholding Agency: VA

Property Number: 97199740005

Status: Underutilized

Reasons: Secured Area

Montana

Sewage Lagoons/40 acres

VA Center

Ft. Harrison MT 59639

Landholding Agency: VA

Property Number: 97200340007

Status: Excess

Reasons: Floodway

New Hampshire

274.71 acres

Berlin Co: Coos NH 03570

Landholding Agency: GSA

Property Number: 54200830005

Status: Excess

GSA Number: 1-J-NH-0501

Reasons: Other—landlocked

New York

Tract 1

VA Medical Center

Bath Co: Steuben NY 14810

Landholding Agency: VA

Property Number: 97199010011

Status: Unutilized

Directions: Exit 38 off New York State Route 17.

Reasons: Secured Area

Tract 2

VA Medical Center

Bath Co: Steuben NY 14810

Landholding Agency: VA

Property Number: 97199010012

Status: Underutilized

Directions: Exit 38 off New York State Route 17.

Reasons: Secured Area

Tract 3

VA Medical Center

Bath Co: Steuben NY 14810

Landholding Agency: VA

Property Number: 97199010013

Status: Underutilized

Directions: Exit 38 off New York State Route 17.

Reasons: Secured Area

Tract 4

VA Medical Center

Bath Co: Steuben NY 14810

Landholding Agency: VA

Property Number: 97199010014

Status: Unutilized

Directions: Exit 38 off New York State Route 17.

Reasons: Secured Area

North Dakota

11 Missile Launch Facilities

Grand Forks ND

Landholding Agency: GSA

Property Number: 54200840002

Status: Surplus

GSA Number: 7-D-ND-0500

Reasons: Contamination

Pennsylvania

Portion/Tract 117

E. of Strabane Ave.

Canonsburg PA

Landholding Agency: GSA

Property Number: 54200820003

Status: Excess

GSA Number: 4-B-PA-811

Reasons: Contamination

South Carolina

Laurel Bay Tract

Marine Corps Air Station

Beaufort SC

Landholding Agency: Navy

Property Number: 77200830010

Status: Excess

Reasons: Secured Area

Utah

0.47 acre

Feeder Canal

Hyrum UT 84319

Landholding Agency: Interior

Property Number: 61200740007

Status: Excess

Reasons: Other—landlocked

0.47 acre

Hyrum Feeder Canal

Hyrum UT 84319

Landholding Agency: Interior

Property Number: 61200820004

Status: Excess

Reasons: Other—landlocked

Virginia

FAA Outer Marker 19R

Norman's Station Rd.

Chantilly VA 20151

Landholding Agency: GSA

Property Number: 54200820020

Status: Surplus

GSA Number: 11-VA-1103AA

Reasons: Within airport runway clear zone; Within 2000 ft. of flammable or explosive material

Washington

405 sq. ft./Land

Naval Base Kitsap

Bangor WA

Landholding Agency: Navy

Property Number: 77200520060

Status: Unutilized

Reasons: Secured Area

230 sq. ft. land

Naval Magazine

Indian Island WA

Landholding Agency: Navy

Property Number: 77200620037

Status: Underutilized

Reasons: Secured Area; Within 2000 ft. of flammable or explosive material

Tabook Transit Site

Easement

Jefferson WA

Landholding Agency: Navy

Property Number: 77200710016

Status: Excess

Reasons: Other—Remote Location

[FR Doc. E9-3755 Filed 2-26-09; 8:45 am]

BILLING CODE 4210-67-P